DEPARTMENT OF AGRICULTURE

Agricultural Marketing Service

7 CFR Part 1205

[Doc. #AMS-CN-18-0013]

Cotton Board Rules and Regulations: Adjusting Supplemental Assessment on Imports (2018 Amendments)

AGENCY: Agricultural Marketing Service, USDA.

ACTION: Direct final rule.

SUMMARY: The Agricultural Marketing Service (AMS) is amending the Cotton Board Rules and Regulations, increasing the value assigned to imported cotton for the purposes of calculating supplemental assessments collected for use by the Cotton Research and Promotion Program. This amendment is required each year to ensure that assessments collected on imported cotton and the cotton content of imported products will be the same as those paid on domestically produced cotton. In addition, AMS is updating the Harmonized Tariff Schedule (HTS) statistical reporting numbers that were amended since the last assessment adjustment in 2017.

DATES: This direct rule is effective October 16, 2018, without further action or notice, unless significant adverse comment is received by September 17, 2018. If significant adverse comment is received, AMS will publish a timely withdrawal of the amendment in the Federal Register.

ADDRESSES: Written comments may be submitted to the addresses specified below. All comments will be made available to the public. Please do not include personally identifiable information (such as name, address, or other contact information) or confidential business information that you do not want publically disclosed. All comments may be posted on the internet and can be retrieved by most internet search engines. Comments may be submitted anonymously.

Comments, identified by AMS-CN-18-0013, may be submitted electronically through the Federal eRulemaking Portal at http://www.regulations.gov. Please follow the instructions for submitting comments. In addition, comments may be submitted by mail or hand delivery to Cotton Research and Promotion, Cotton and Tobacco Program, AMS, USDA, 100 Riverside Parkway, Suite 101, Fredericksburg, Virginia, 22406. Comments should be submitted in triplicate. All comments received will be made available for public inspection at Cotton and Tobacco Program, AMS, USDA, 100 Riverside Parkway, Suite 101, Fredericksburg, Virginia 22406. A copy of this document may be found at: www.regulations.gov.

FOR FURTHER INFORMATION CONTACT: Shethir M. Riva, Director, Research and Promotion, Cotton and Tobacco Program, AMS, USDA, 100 Riverside Parkway, Suite 101, Fredericksburg, Virginia, 22406, telephone (540) 361-2726, facsimile (540) 361-1199, or email at Shethir.Riva@ams.usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 Stat. 3909, November 28, 1990). These amendments contained two provisions that authorize changes in the funding procedures for the Cotton Research and Promotion Program. These provisions provide for: (1) The assessment of imported cotton and cotton products; and (2) termination of refunds to cotton producers. (Prior to the 1990 amendments to the Act, producers could request assessment refunds.)

As amended, the Cotton Research and Promotion Order (7 CFR part 1205) (Order) was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This direct final rule would amend the value assigned to imported cotton in the Cotton Board Rules and Regulations (7 CFR 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Research and Promotion Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2017 in the Federal Register (82 FR 41829) for the purpose of calculating assessments on imported cotton is $0.011510 per kilogram. Using the average weighted price received by U.S. farmers for Upland cotton for the calendar year 2017, this direct final rule would amend the new value of imported cotton to $0.011905 per kilogram to reflect the price paid by U.S. farmers for Upland cotton during 2017.

An example of the complete assessment formula and how the figures are obtained is as follows:

One bale is equal to 500 pounds.

One kilogram equals 2.2046 pounds.

One pound equals 0.453597 kilograms.

One Dollar per Bale Assessment Converted to Kilograms

A 500-pound bale equals 226.8 kg. (500 × 0.453597).

$1 per bale assessment equals $0.002000 per pound or $0.2000 cents per pound (1/500) or $0.004409 per kg or $0.4409 cents per kg. (1/226.8).

Supplemental Assessment of 5/10 of One Percent of the Value of the Cotton Converted to Kilograms

The 2017 calendar year weighted average price received by producers for Upland cotton is $0.68 per pound or $1.499128 per kg. (0.68 × 2.2046).

Five tenths of one percent of the average price equals $0.007496 per kg. (1.499128 × 0.005).

Total Assessment

The total assessment per kilogram of raw cotton is obtained by adding the $1 per bale equivalent assessment of $0.004409 per kg. and the supplemental assessment $0.007496 per kg., which equals $0.011905 per kg.

The current assessment on imported cotton is $0.011510 per kilogram of imported cotton. The revised assessment in this direct final rule is $0.011905, an increase of $0.000395 per kilogram. This increase reflects the increase in the average weighted price of Upland cotton received by U.S. farmers during the period January through December 2017.

Import Assessment Table in section 1205.510(b)(3) indicates the total assessment rate ($ per kilogram) due for each Harmonized Tariff Schedule (HTS) number that is subject to assessment. This table must be revised each year to reflect changes in supplemental assessment rates and any changes to the HTS numbers. In this direct final rule, AMS is amending the Import Assessment Table.

AMS believes that these amendments are necessary to ensure that assessments collected on imported cotton and the cotton content of imported products are the same as those paid on domestically produced cotton. Accordingly, changes reflected in this rule should be adopted and implemented as soon as possible since it is required by regulation.

As described in this Federal Register document, the amendment to the value used to determine the Cotton Research and Promotion Program importer assessment will be updated to reflect the assessment already paid by U.S. farmers. For the reasons mentioned above, AMS finds that publishing a proposed rule and seeking public comment is unnecessary because the change is required annually by regulation in 7 CFR 1205.510.

Also, this direct-final rulemaking furthers the objectives of Executive Order 13563, which requires that the regulatory process “promote predictability and reduce uncertainty” and “identify and use the best, most innovative, and least burdensome tools for achieving regulatory ends.”

AMS has used the direct rule rulemaking process since 2013 and has not received any adverse comments; however, if AMS does receives significant adverse comment during the comment period, it will publish, in a timely manner, a document in the Federal Register withdrawing this direct final rule. AMS will then address public comments in a subsequent proposed rule and final rule based on the proposed rule.

B. Regulatory Impact Analysis

Executive Order 13175

This action has been reviewed in accordance with the requirements of Executive Order 13175, Consultation and Coordination with Indian Tribal Governments. The review reveals that this regulation would not have substantial and direct effects on Tribal governments and would not have significant Tribal implications.

Executive Orders 12866 and 13563

Executive Orders 12866 and 13563 direct agencies to assess all costs and benefits of available regulatory alternatives and, if regulation is necessary, to select regulatory approaches that maximize net benefits (including potential economic, environmental, public health, and safety effects; distributive impacts; and equity). Executive Order 13563 emphasizes the importance of quantifying both costs and benefits, reducing costs, harmonizing rules, and promoting flexibility. This action falls within a category of regulatory actions that the Office of Management and Budget (OMB) exempted from Executive Order 12866 review. Additionally, because this rule does not meet the definition of a significant regulatory action it does not trigger the requirements contained in Executive Order 13771. See OMB's Memorandum titled “Interim Guidance Implementing Section 2 of the Executive Order of January 30, 2017 titled `Reducing Regulation and Controlling Regulatory Costs' ” (February 2, 2017).

Executive Order 12988

This rule has been reviewed under Executive Order 12988, Civil Justice Reform. It is not intended to have retroactive effect.

The Act provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration defines, in 13 CFR part 121, small agricultural producers as those having annual receipts of no more than $750,000 and small agricultural service firms (importers) as having receipts of no more than $7,500,000. In 2017, an estimated 20,000 importers are subject to the rules and regulations issued pursuant to the Cotton Research and Promotion Order. Most are considered small entities as defined by the Small Business Administration.

This rule would only affect importers of cotton and cotton-containing products and would increase the assessments paid by the importers under the Cotton Research and Promotion Order. The current assessment on imported cotton is $0.011510 per kilogram of imported cotton. The amended assessment would be $0.011905, which was calculated based on the 12-month weighted average of price received by U.S. cotton farmers. Section 1205.510, “Levy of assessments”, provides “The rate of the supplemental assessment on imported cotton will be the same as that levied on cotton produced within the United States.” In addition, section 1205.510 provides that the 12-month weighted average of prices received by U.S. farmers will be used as the value of imported cotton for the purpose of levying the supplemental assessment on imported cotton.

Under the Cotton Research and Promotion Program, assessments are used by the Cotton Board to finance research and promotion programs designed to increase consumer demand for Upland cotton in the United States and international markets. In 2016 (the last audited year), producer assessments totaled $36.5 million and importer assessments totaled $36.51 million. According to the Cotton Board, should the volume of cotton products imported into the U.S. remain at the same level in 2018, one could expect an increase of assessments by approximately $1,278,951.

Imported organic cotton and products may be exempt from assessment if eligible under section 1205.519 of the Order.

There are no Federal rules that duplicate, overlap, or conflict with this rule.

In compliance with Office of Management and Budget (OMB) regulations (5 CFR part 1320) which implement the Paperwork Reduction Act (PRA) (44 U.S.C. Chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations proposed herein. This period is deemed appropriate because an amendment is required to adjust the assessments collected on imported cotton and the cotton content of imported products to be the same as those paid on domestically produced cotton. Accordingly, the change in this rule, if adopted, should be implemented as soon as possible.

List of Subjects in 7 CFR Part 1205

Advertising, Agricultural research, Cotton, Marketing agreements, Reporting and recordkeeping requirements.

For the reasons set forth in the preamble, AMS amends 7 CFR part 1205 as follows:

PART 1205—COTTON RESEARCH AND PROMOTION

1. The authority citation for part 1205 continues to read as follows:

Authority: 7 U.S.C. 2101-2118; 7 U.S.C 7401.

2. In § 1205.510, paragraph (b)(2) and the table in paragraph (b)(3) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.1905 cents per kilogram.

(3) * * *

Import Assessment Table
[Raw cotton fiber]
HTS No. | Conv. factor | Cents/kg.
5007106010 | 0.2713 | 0.3229827
5007106020 | 0.2713 | 0.3229827
5007906010 | 0.2713 | 0.3229827
5007906020 | 0.2713 | 0.3229827
5112904000 | 0.1085 | 0.1291693
5112905000 | 0.1085 | 0.1291693
5112909010 | 0.1085 | 0.1291693
5112909090 | 0.1085 | 0.1291693
5201000500 | 1 | 1.1905000
5201001200 | 1 | 1.1905000
5201001400 | 1 | 1.1905000
5201001800 | 1 | 1.1905000
5201002200 | 1 | 1.1905000
5201002400 | 1 | 1.1905000
5201002800 | 1 | 1.1905000
5201003400 | 1 | 1.1905000
5201003800 | 1 | 1.1905000
5204110000 | 1.0526 | 1.2531203
5204190000 | 0.6316 | 0.7519198
5204200000 | 1.0526 | 1.2531203
5205111000 | 1 | 1.1905000
5205112000 | 1 | 1.1905000
5205121000 | 1 | 1.1905000
5205122000 | 1 | 1.1905000
5205131000 | 1 | 1.1905000
5205132000 | 1 | 1.1905000
5205141000 | 1 | 1.1905000
5205142000 | 1 | 1.1905000
5205151000 | 1 | 1.1905000
5205152000 | 1 | 1.1905000
5205210020 | 1.044 | 1.2428820
5205210090 | 1.044 | 1.2428820
5205220020 | 1.044 | 1.2428820
5205220090 | 1.044 | 1.2428820
5205230020 | 1.044 | 1.2428820
5205230090 | 1.044 | 1.2428820
5205240020 | 1.044 | 1.2428820
5205240090 | 1.044 | 1.2428820
5205260020 | 1.044 | 1.2428820
5205260090 | 1.044 | 1.2428820
5205270020 | 1.044 | 1.2428820
5205270090 | 1.044 | 1.2428820
5205280020 | 1.044 | 1.2428820
5205280090 | 1.044 | 1.2428820
5205310000 | 1 | 1.1905000
5205320000 | 1 | 1.1905000
5205330000 | 1 | 1.1905000
5205340000 | 1 | 1.1905000
5205350000 | 1 | 1.1905000
5205410020 | 1.044 | 1.2428820
5205410090 | 1.044 | 1.2428820
5205420021 | 1.044 | 1.2428820
5205420029 | 1.044 | 1.2428820
5205420090 | 1.044 | 1.2428820
5205430021 | 1.044 | 1.2428820
5205430029 | 1.044 | 1.2428820
5205430090 | 1.044 | 1.2428820
5205440021 | 1.044 | 1.2428820
5205440029 | 1.044 | 1.2428820
5205440090 | 1.044 | 1.2428820
5205460021 | 1.044 | 1.2428820
5205460029 | 1.044 | 1.2428820
5205460090 | 1.044 | 1.2428820
5205470021 | 1.044 | 1.2428820
5205470029 | 1.044 | 1.2428820
5205470090 | 1.044 | 1.2428820
5205480020 | 1.044 | 1.2428820
5205480090 | 1.044 | 1.2428820
5206110000 | 0.7368 | 0.8771604
5206120000 | 0.7368 | 0.8771604
5206130000 | 0.7368 | 0.8771604
5206140000 | 0.7368 | 0.8771604
5206150000 | 0.7368 | 0.8771604
5206210000 | 0.7692 | 0.9157326
5206220000 | 0.7692 | 0.9157326
5206230000 | 0.7692 | 0.9157326
5206240000 | 0.7692 | 0.9157326
5206250000 | 0.7692 | 0.9157326
5206310000 | 0.7368 | 0.8771604
5206320000 | 0.7368 | 0.8771604
5206330000 | 0.7368 | 0.8771604
5206340000 | 0.7368 | 0.8771604
5206350000 | 0.7368 | 0.8771604
5206410000 | 0.7692 | 0.9157326
5206420000 | 0.7692 | 0.9157326
5206430000 | 0.7692 | 0.9157326
5206440000 | 0.7692 | 0.9157326
5206450000 | 0.7692 | 0.9157326
5207100000 | 0.9474 | 1.1278797
5207900000 | 0.6316 | 0.7519198
5208112020 | 1.0852 | 1.2919306
5208112040 | 1.0852 | 1.2919306
5208112090 | 1.0852 | 1.2919306
5208114020 | 1.0852 | 1.2919306
5208114040 | 1.0852 | 1.2919306
5208114060 | 1.0852 | 1.2919306
5208114090 | 1.0852 | 1.2919306
5208116000 | 1.0852 | 1.2919306
5208118020 | 1.0852 | 1.2919306
5208118090 | 1.0852 | 1.2919306
5208124020 | 1.0852 | 1.2919306
5208124040 | 1.0852 | 1.2919306
5208124090 | 1.0852 | 1.2919306
5208126020 | 1.0852 | 1.2919306
5208126040 | 1.0852 | 1.2919306
5208126060 | 1.0852 | 1.2919306
5208126090 | 1.0852 | 1.2919306
5208128020 | 1.0852 | 1.2919306
5208128090 | 1.0852 | 1.2919306
5208130000 | 1.0852 | 1.2919306
5208192020 | 1.0852 | 1.2919306
5208192090 | 1.0852 | 1.2919306
5208194020 | 1.0852 | 1.2919306
5208194090 | 1.0852 | 1.2919306
5208196020 | 1.0852 | 1.2919306
5208196090 | 1.0852 | 1.2919306
5208198020 | 1.0852 | 1.2919306
5208198090 | 1.0852 | 1.2919306
5208212020 | 1.0852 | 1.2919306
5208212040 | 1.0852 | 1.2919306
5208212090 | 1.0852 | 1.2919306
5208214020 | 1.0852 | 1.2919306
5208214040 | 1.0852 | 1.2919306
5208214060 | 1.0852 | 1.2919306
5208214090 | 1.0852 | 1.2919306
5208216020 | 1.0852 | 1.2919306
5208216090 | 1.0852 | 1.2919306
5208224020 | 1.0852 | 1.2919306
5208224040 | 1.0852 | 1.2919306
5208224090 | 1.0852 | 1.2919306
5208226020 | 1.0852 | 1.2919306
5208226040 | 1.0852 | 1.2919306
5208226060 | 1.0852 | 1.2919306
5208226090 | 1.0852 | 1.2919306
5208228020 | 1.0852 | 1.2919306
5208228090 | 1.0852 | 1.2919306
5208230000 | 1.0852 | 1.2919306
5208292020 | 1.0852 | 1.2919306
5208292090 | 1.0852 | 1.2919306
5208294020 | 1.0852 | 1.2919306
5208294090 | 1.0852 | 1.2919306
5208296020 | 1.0852 | 1.2919306
5208296090 | 1.0852 | 1.2919306
5208298020 | 1.0852 | 1.2919306
5208298090 | 1.0852 | 1.2919306
5208312000 | 1.0852 | 1.2919306
5208314020 | 1.0852 | 1.2919306
5208314040 | 1.0852 | 1.2919306
5208314090 | 1.0852 | 1.2919306
5208316020 | 1.0852 | 1.2919306
5208316040 | 1.0852 | 1.2919306
5208316060 | 1.0852 | 1.2919306
5208316090 | 1.0852 | 1.2919306
5208318020 | 1.0852 | 1.2919306
5208318090 | 1.0852 | 1.2919306
5208321000 | 1.0852 | 1.2919306
5208323020 | 1.0852 | 1.2919306
5208323040 | 1.0852 | 1.2919306
5208323090 | 1.0852 | 1.2919306
5208324020 | 1.0852 | 1.2919306
5208324040 | 1.0852 | 1.2919306
5208324060 | 1.0852 | 1.2919306
5208324090 | 1.0852 | 1.2919306
5208325020 | 1.0852 | 1.2919306
5208325090 | 1.0852 | 1.2919306
5208330000 | 1.0852 | 1.2919306
5208392020 | 1.0852 | 1.2919306
5208392090 | 1.0852 | 1.2919306
5208394020 | 1.0852 | 1.2919306
5208394090 | 1.0852 | 1.2919306
5208396020 | 1.0852 | 1.2919306
5208396090 | 1.0852 | 1.2919306
5208398020 | 1.0852 | 1.2919306
5208398090 | 1.0852 | 1.2919306
5208412000 | 1.0852 | 1.2919306
5208414000 | 1.0852 | 1.2919306
5208416000 | 1.0852 | 1.2919306
5208418000 | 1.0852 | 1.2919306
5208421000 | 1.0852 | 1.2919306
5208423000 | 1.0852 | 1.2919306
5208424000 | 1.0852 | 1.2919306
5208425000 | 1.0852 | 1.2919306
5208430000 | 1.0852 | 1.2919306
5208492000 | 1.0852 | 1.2919306
5208494010 | 1.0852 | 1.2919306
5208494020 | 1.0852 | 1.2919306
5208494090 | 1.0852 | 1.2919306
5208496010 | 1.0852 | 1.2919306
5208496020 | 1.0852 | 1.2919306
5208496030 | 1.0852 | 1.2919306
5208496090 | 1.0852 | 1.2919306
5208498020 | 1.0852 | 1.2919306
5208498090 | 1.0852 | 1.2919306
5208512000 | 1.0852 | 1.2919306
5208514020 | 1.0852 | 1.2919306
5208514040 | 1.0852 | 1.2919306
5208514090 | 1.0852 | 1.2919306
5208516020 | 1.0852 | 1.2919306
5208516040 | 1.0852 | 1.2919306
5208516060 | 1.0852 | 1.2919306
5208516090 | 1.0852 | 1.2919306
5208518020 | 1.0852 | 1.2919306
5208518090 | 1.0852 | 1.2919306
5208521000 | 1.0852 | 1.2919306
5208523020 | 1.0852 | 1.2919306
5208523035 | 1.0852 | 1.2919306
5208523045 | 1.0852 | 1.2919306
5208523090 | 1.0852 | 1.2919306
5208524020 | 1.0852 | 1.2919306
5208524035 | 1.0852 | 1.2919306
5208524045 | 1.0852 | 1.2919306
5208524055 | 1.0852 | 1.2919306
5208524065 | 1.0852 | 1.2919306
5208524090 | 1.0852 | 1.2919306
5208525020 | 1.0852 | 1.2919306
5208525090 | 1.0852 | 1.2919306
5208591000 | 1.0852 | 1.2919306
5208592015 | 1.0852 | 1.2919306
5208592025 | 1.0852 | 1.2919306
5208592085 | 1.0852 | 1.2919306
5208592095 | 1.0852 | 1.2919306
5208594020 | 1.0852 | 1.2919306
5208594090 | 1.0852 | 1.2919306
5208596020 | 1.0852 | 1.2919306
5208596090 | 1.0852 | 1.2919306
5208598020 | 1.0852 | 1.2919306
5208598090 | 1.0852 | 1.2919306
5209110020 | 1.0309 | 1.2272865
5209110025 | 1.0309 | 1.2272865
5209110035 | 1.0309 | 1.2272865
5209110050 | 1.0309 | 1.2272865
5209110090 | 1.0309 | 1.2272865
5209120020 | 1.0309 | 1.2272865
5209120040 | 1.0309 | 1.2272865
5209190020 | 1.0309 | 1.2272865
5209190040 | 1.0309 | 1.2272865
5209190060 | 1.0309 | 1.2272865
5209190090 | 1.0309 | 1.2272865
5209210020 | 1.0309 | 1.2272865
5209210025 | 1.0309 | 1.2272865
5209210035 | 1.0309 | 1.2272865
5209210050 | 1.0309 | 1.2272865
5209210090 | 1.0309 | 1.2272865
5209220020 | 1.0309 | 1.2272865
5209220040 | 1.0309 | 1.2272865
5209290020 | 1.0309 | 1.2272865
5209290040 | 1.0309 | 1.2272865
5209290060 | 1.0309 | 1.2272865
5209290090 | 1.0309 | 1.2272865
5209313000 | 1.0309 | 1.2272865
5209316020 | 1.0309 | 1.2272865
5209316025 | 1.0309 | 1.2272865
5209316035 | 1.0309 | 1.2272865
5209316050 | 1.0309 | 1.2272865
5209316090 | 1.0309 | 1.2272865
5209320020 | 1.0309 | 1.2272865
5209320040 | 1.0309 | 1.2272865
5209390020 | 1.0309 | 1.2272865
5209390040 | 1.0309 | 1.2272865
5209390060 | 1.0309 | 1.2272865
5209390080 | 1.0309 | 1.2272865
5209390090 | 1.0309 | 1.2272865
5209413000 | 1.0309 | 1.2272865
5209416020 | 1.0309 | 1.2272865
5209416040 | 1.0309 | 1.2272865
5209420020 | 0.9767 | 1.1627614
5209420040 | 0.9767 | 1.1627614
5209420060 | 0.9767 | 1.1627614
5209420080 | 0.9767 | 1.1627614
5209430030 | 1.0309 | 1.2272865
5209430050 | 1.0309 | 1.2272865
5209490020 | 1.0309 | 1.2272865
5209490040 | 1.0309 | 1.2272865
5209490090 | 1.0309 | 1.2272865
5209513000 | 1.0309 | 1.2272865
5209516015 | 1.0852 | 1.2919306
5209516025 | 1.0852 | 1.2919306
5209516032 | 1.0852 | 1.2919306
5209516035 | 1.0852 | 1.2919306
5209516050 | 1.0852 | 1.2919306
5209516090 | 1.0852 | 1.2919306
5209520020 | 1.0852 | 1.2919306
5209520040 | 1.0852 | 1.2919306
5209590015 | 1.0852 | 1.2919306
5209590025 | 1.0852 | 1.2919306
5209590040 | 1.0852 | 1.2919306
5209590060 | 1.0852 | 1.2919306
5209590090 | 1.0852 | 1.2919306
5210114020 | 0.6511 | 0.7751346
5210114040 | 0.6511 | 0.7751346
5210114090 | 0.6511 | 0.7751346
5210116020 | 0.6511 | 0.7751346
5210116040 | 0.6511 | 0.7751346
5210116060 | 0.6511 | 0.7751346
5210116090 | 0.6511 | 0.7751346
5210118020 | 0.6511 | 0.7751346
5210118090 | 0.6511 | 0.7751346
5210191000 | 0.6511 | 0.7751346
5210192020 | 0.6511 | 0.7751346
5210192090 | 0.6511 | 0.7751346
5210194020 | 0.6511 | 0.7751346
5210194090 | 0.6511 | 0.7751346
5210196020 | 0.6511 | 0.7751346
5210196090 | 0.6511 | 0.7751346
5210198020 | 0.6511 | 0.7751346
5210198090 | 0.6511 | 0.7751346
5210214020 | 0.6511 | 0.7751346
5210214040 | 0.6511 | 0.7751346
5210214090 | 0.6511 | 0.7751346
5210216020 | 0.6511 | 0.7751346
5210216040 | 0.6511 | 0.7751346
5210216060 | 0.6511 | 0.7751346
5210216090 | 0.6511 | 0.7751346
5210218020 | 0.6511 | 0.7751346
5210218090 | 0.6511 | 0.7751346
5210291000 | 0.6511 | 0.7751346
5210292020 | 0.6511 | 0.7751346
5210292090 | 0.6511 | 0.7751346
5210294020 | 0.6511 | 0.7751346
5210294090 | 0.6511 | 0.7751346
5210296020 | 0.6511 | 0.7751346
5210296090 | 0.6511 | 0.7751346
5210298020 | 0.6511 | 0.7751346
5210298090 | 0.6511 | 0.7751346
5210314020 | 0.6511 | 0.7751346
5210314040 | 0.6511 | 0.7751346
5210314090 | 0.6511 | 0.7751346
5210316020 | 0.6511 | 0.7751346
5210316040 | 0.6511 | 0.7751346
5210316060 | 0.6511 | 0.7751346
5210316090 | 0.6511 | 0.7751346
5210318020 | 0.6511 | 0.7751346
5210318090 | 0.6511 | 0.7751346
5210320000 | 0.6511 | 0.7751346
5210392020 | 0.6511 | 0.7751346
5210392090 | 0.6511 | 0.7751346
5210394020 | 0.6511 | 0.7751346
5210394090 | 0.6511 | 0.7751346
5210396020 | 0.6511 | 0.7751346
5210396090 | 0.6511 | 0.7751346
5210398020 | 0.6511 | 0.7751346
5210398090 | 0.6511 | 0.7751346
5210414000 | 0.6511 | 0.7751346
5210416000 | 0.6511 | 0.7751346
5210418000 | 0.6511 | 0.7751346
5210491000 | 0.6511 | 0.7751346
5210492000 | 0.6511 | 0.7751346
5210494010 | 0.6511 | 0.7751346
5210494020 | 0.6511 | 0.7751346
5210494090 | 0.6511 | 0.7751346
5210496010 | 0.6511 | 0.7751346
5210496020 | 0.6511 | 0.7751346
5210496090 | 0.6511 | 0.7751346
5210498020 | 0.6511 | 0.7751346
5210498090 | 0.6511 | 0.7751346
5210514020 | 0.6511 | 0.7751346
5210514040 | 0.6511 | 0.7751346
5210514090 | 0.6511 | 0.7751346
5210516020 | 0.6511 | 0.7751346
5210516040 | 0.6511 | 0.7751346
5210516060 | 0.6511 | 0.7751346
5210516090 | 0.6511 | 0.7751346
5210518020 | 0.6511 | 0.7751346
5210518090 | 0.6511 | 0.7751346
5210591000 | 0.6511 | 0.7751346
5210592020 | 0.6511 | 0.7751346
5210592090 | 0.6511 | 0.7751346
5210594020 | 0.6511 | 0.7751346
5210594090 | 0.6511 | 0.7751346
5210596020 | 0.6511 | 0.7751346
5210596090 | 0.6511 | 0.7751346
5210598020 | 0.6511 | 0.7751346
5210598090 | 0.6511 | 0.7751346
5211110020 | 0.6511 | 0.7751346
5211110025 | 0.6511 | 0.7751346
5211110035 | 0.6511 | 0.7751346
5211110050 | 0.6511 | 0.7751346
5211110090 | 0.6511 | 0.7751346
5211120020 | 0.6511 | 0.7751346
5211120040 | 0.6511 | 0.7751346
5211190020 | 0.6511 | 0.7751346
5211190040 | 0.6511 | 0.7751346
5211190060 | 0.6511 | 0.7751346
5211190090 | 0.6511 | 0.7751346
5211202120 | 0.6511 | 0.7751346
5211202125 | 0.6511 | 0.7751346
5211202135 | 0.6511 | 0.7751346
5211202150 | 0.6511 | 0.7751346
5211202190 | 0.6511 | 0.7751346
5211202220 | 0.6511 | 0.7751346
5211202240 | 0.6511 | 0.7751346
5211202920 | 0.6511 | 0.7751346
5211202940 | 0.6511 | 0.7751346
5211202960 | 0.6511 | 0.7751346
5211202990 | 0.6511 | 0.7751346
5211310020 | 0.6511 | 0.7751346
5211310025 | 0.6511 | 0.7751346
5211310035 | 0.6511 | 0.7751346
5211310050 | 0.6511 | 0.7751346
5211310090 | 0.6511 | 0.7751346
5211320020 | 0.6511 | 0.7751346
5211320040 | 0.6511 | 0.7751346
5211390020 | 0.6511 | 0.7751346
5211390040 | 0.6511 | 0.7751346
5211390060 | 0.6511 | 0.7751346
5211390090 | 0.6511 | 0.7751346
5211410020 | 0.6511 | 0.7751346
5211410040 | 0.6511 | 0.7751346
5211420020 | 0.7054 | 0.8397787
5211420040 | 0.7054 | 0.8397787
5211420060 | 0.6511 | 0.7751346
5211420080 | 0.6511 | 0.7751346
5211430030 | 0.6511 | 0.7751346
5211430050 | 0.6511 | 0.7751346
5211490020 | 0.6511 | 0.7751346
5211490090 | 0.6511 | 0.7751346
5211510020 | 0.6511 | 0.7751346
5211510030 | 0.6511 | 0.7751346
5211510050 | 0.6511 | 0.7751346
5211510090 | 0.6511 | 0.7751346
5211520020 | 0.6511 | 0.7751346
5211520040 | 0.6511 | 0.7751346
5211590015 | 0.6511 | 0.7751346
5211590025 | 0.6511 | 0.7751346
5211590040 | 0.6511 | 0.7751346
5211590060 | 0.6511 | 0.7751346
5211590090 | 0.6511 | 0.7751346
5212111010 | 0.5845 | 0.6958473
5212111020 | 0.6231 | 0.7418006
5212116010 | 0.8681 | 1.0334731
5212116020 | 0.8681 | 1.0334731
5212116030 | 0.8681 | 1.0334731
5212116040 | 0.8681 | 1.0334731
5212116050 | 0.8681 | 1.0334731
5212116060 | 0.8681 | 1.0334731
5212116070 | 0.8681 | 1.0334731
5212116080 | 0.8681 | 1.0334731
5212116090 | 0.8681 | 1.0334731
5212121010 | 0.5845 | 0.6958473
5212121020 | 0.6231 | 0.7418006
5212126010 | 0.8681 | 1.0334731
5212126020 | 0.8681 | 1.0334731
5212126030 | 0.8681 | 1.0334731
5212126040 | 0.8681 | 1.0334731
5212126050 | 0.8681 | 1.0334731
5212126060 | 0.8681 | 1.0334731
5212126070 | 0.8681 | 1.0334731
5212126080 | 0.8681 | 1.0334731
5212126090 | 0.8681 | 1.0334731
5212131010 | 0.5845 | 0.6958473
5212131020 | 0.6231 | 0.7418006
5212136010 | 0.8681 | 1.0334731
5212136020 | 0.8681 | 1.0334731
5212136030 | 0.8681 | 1.0334731
5212136040 | 0.8681 | 1.0334731
5212136050 | 0.8681 | 1.0334731
5212136060 | 0.8681 | 1.0334731
5212136070 | 0.8681 | 1.0334731
5212136080 | 0.8681 | 1.0334731
5212136090 | 0.8681 | 1.0334731
5212141010 | 0.5845 | 0.6958473
5212141020 | 0.6231 | 0.7418006
5212146010 | 0.8681 | 1.0334731
5212146020 | 0.8681 | 1.0334731
5212146030 | 0.8681 | 1.0334731
5212146090 | 0.8681 | 1.0334731
5212151010 | 0.5845 | 0.6958473
5212151020 | 0.6231 | 0.7418006
5212156010 | 0.8681 | 1.0334731
5212156020 | 0.8681 | 1.0334731
5212156030 | 0.8681 | 1.0334731
5212156040 | 0.8681 | 1.0334731
5212156050 | 0.8681 | 1.0334731
5212156060 | 0.8681 | 1.0334731
5212156070 | 0.8681 | 1.0334731
5212156080 | 0.8681 | 1.0334731
5212156090 | 0.8681 | 1.0334731
5212211010 | 0.5845 | 0.6958473
5212211020 | 0.6231 | 0.7418006
5212216010 | 0.8681 | 1.0334731
5212216020 | 0.8681 | 1.0334731
5212216030 | 0.8681 | 1.0334731
5212216040 | 0.8681 | 1.0334731
5212216050 | 0.8681 | 1.0334731
5212216060 | 0.8681 | 1.0334731
5212216090 | 0.8681 | 1.0334731
5212221010 | 0.5845 | 0.6958473
5212221020 | 0.6231 | 0.7418006
5212226010 | 0.8681 | 1.0334731
5212226020 | 0.8681 | 1.0334731
5212226030 | 0.8681 | 1.0334731
5212226040 | 0.8681 | 1.0334731
5212226050 | 0.8681 | 1.0334731
5212226060 | 0.8681 | 1.0334731
5212226090 | 0.8681 | 1.0334731
5212231010 | 0.5845 | 0.6958473
5212231020 | 0.6231 | 0.7418006
5212236010 | 0.8681 | 1.0334731
5212236020 | 0.8681 | 1.0334731
5212236030 | 0.8681 | 1.0334731
5212236040 | 0.8681 | 1.0334731
5212236050 | 0.8681 | 1.0334731
5212236060 | 0.8681 | 1.0334731
5212236090 | 0.8681 | 1.0334731
5212241010 | 0.5845 | 0.6958473
5212241020 | 0.6231 | 0.7418006
5212246010 | 0.8681 | 1.0334731
5212246020 | 0.7054 | 0.8397787
5212246030 | 0.8681 | 1.0334731
5212246040 | 0.8681 | 1.0334731
5212246090 | 0.8681 | 1.0334731
5212251010 | 0.5845 | 0.6958473
5212251020 | 0.6231 | 0.7418006
5212256010 | 0.8681 | 1.0334731
5212256020 | 0.8681 | 1.0334731
5212256030 | 0.8681 | 1.0334731
5212256040 | 0.8681 | 1.0334731
5212256050 | 0.8681 | 1.0334731
5212256060 | 0.8681 | 1.0334731
5212256090 | 0.8681 | 1.0334731
5309213005 | 0.5426 | 0.6459653
5309213010 | 0.5426 | 0.6459653
5309213015 | 0.5426 | 0.6459653
5309213020 | 0.5426 | 0.6459653
5309214010 | 0.2713 | 0.3229827
5309214090 | 0.2713 | 0.3229827
5309293005 | 0.5426 | 0.6459653
5309293010 | 0.5426 | 0.6459653
5309293015 | 0.5426 | 0.6459653
5309293020 | 0.5426 | 0.6459653
5309294010 | 0.2713 | 0.3229827
5309294090 | 0.2713 | 0.3229827
5311003005 | 0.5426 | 0.6459653
5311003010 | 0.5426 | 0.6459653
5311003015 | 0.5426 | 0.6459653
5311003020 | 0.5426 | 0.6459653
5311004010 | 0.8681 | 1.0334731
5311004020 | 0.8681 | 1.0334731
5407810010 | 0.5426 | 0.6459653
5407810020 | 0.5426 | 0.6459653
5407810030 | 0.5426 | 0.6459653
5407810040 | 0.5426 | 0.6459653
5407810090 | 0.5426 | 0.6459653
5407820010 | 0.5426 | 0.6459653
5407820020 | 0.5426 | 0.6459653
5407820030 | 0.5426 | 0.6459653
5407820040 | 0.5426 | 0.6459653
5407820090 | 0.5426 | 0.6459653
5407830010 | 0.5426 | 0.6459653
5407830020 | 0.5426 | 0.6459653
5407830030 | 0.5426 | 0.6459653
5407830040 | 0.5426 | 0.6459653
5407830090 | 0.5426 | 0.6459653
5407840010 | 0.5426 | 0.6459653
5407840020 | 0.5426 | 0.6459653
5407840030 | 0.5426 | 0.6459653
5407840040 | 0.5426 | 0.6459653
5407840090 | 0.5426 | 0.6459653
5509210000 | 0.1053 | 0.1253597
5509220010 | 0.1053 | 0.1253597
5509220090 | 0.1053 | 0.1253597
5509530030 | 0.3158 | 0.3759599
5509530060 | 0.3158 | 0.3759599
5509620000 | 0.5263 | 0.6265602
5509920000 | 0.5263 | 0.6265602
5510300000 | 0.3684 | 0.4385802
5511200000 | 0.3158 | 0.3759599
5512110010 | 0.1085 | 0.1291693
5512110022 | 0.1085 | 0.1291693
5512110027 | 0.1085 | 0.1291693
5512110030 | 0.1085 | 0.1291693
5512110040 | 0.1085 | 0.1291693
5512110050 | 0.1085 | 0.1291693
5512110060 | 0.1085 | 0.1291693
5512110070 | 0.1085 | 0.1291693
5512110090 | 0.1085 | 0.1291693
5512190005 | 0.1085 | 0.1291693
5512190010 | 0.1085 | 0.1291693
5512190015 | 0.1085 | 0.1291693
5512190022 | 0.1085 | 0.1291693
5512190027 | 0.1085 | 0.1291693
5512190030 | 0.1085 | 0.1291693
5512190035 | 0.1085 | 0.1291693
5512190040 | 0.1085 | 0.1291693
5512190045 | 0.1085 | 0.1291693
5512190050 | 0.1085 | 0.1291693
5512190090 | 0.1085 | 0.1291693
5512210010 | 0.0326 | 0.0388103
5512210020 | 0.0326 | 0.0388103
5512210030 | 0.0326 | 0.0388103
5512210040 | 0.0326 | 0.0388103
5512210060 | 0.0326 | 0.0388103
5512210070 | 0.0326 | 0.0388103
5512210090 | 0.0326 | 0.0388103
5512290010 | 0.217 | 0.2583385
5512910010 | 0.0543 | 0.0646442
5512990005 | 0.0543 | 0.0646442
5512990010 | 0.0543 | 0.0646442
5512990015 | 0.0543 | 0.0646442
5512990020 | 0.0543 | 0.0646442
5512990025 | 0.0543 | 0.0646442
5512990030 | 0.0543 | 0.0646442
5512990035 | 0.0543 | 0.0646442
5512990040 | 0.0543 | 0.0646442
5512990045 | 0.0543 | 0.0646442
5512990090 | 0.0543 | 0.0646442
5513110020 | 0.3581 | 0.4263181
5513110040 | 0.3581 | 0.4263181
5513110060 | 0.3581 | 0.4263181
5513110090 | 0.3581 | 0.4263181
5513120000 | 0.3581 | 0.4263181
5513130020 | 0.3581 | 0.4263181
5513130040 | 0.3581 | 0.4263181
5513130090 | 0.3581 | 0.4263181
5513190010 | 0.3581 | 0.4263181
5513190020 | 0.3581 | 0.4263181
5513190030 | 0.3581 | 0.4263181
5513190040 | 0.3581 | 0.4263181
5513190050 | 0.3581 | 0.4263181
5513190060 | 0.3581 | 0.4263181
5513190090 | 0.3581 | 0.4263181
5513210020 | 0.3581 | 0.4263181
5513210040 | 0.3581 | 0.4263181
5513210060 | 0.3581 | 0.4263181
5513210090 | 0.3581 | 0.4263181
5513230121 | 0.3581 | 0.4263181
5513230141 | 0.3581 | 0.4263181
5513230191 | 0.3581 | 0.4263181
5513290010 | 0.3581 | 0.4263181
5513290020 | 0.3581 | 0.4263181
5513290030 | 0.3581 | 0.4263181
5513290040 | 0.3581 | 0.4263181
5513290050 | 0.3581 | 0.4263181
5513290060 | 0.3581 | 0.4263181
5513290090 | 0.3581 | 0.4263181
5513310000 | 0.3581 | 0.4263181
5513390111 | 0.3581 | 0.4263181
5513390115 | 0.3581 | 0.4263181
5513390191 | 0.3581 | 0.4263181
5513410020 | 0.3581 | 0.4263181
5513410040 | 0.3581 | 0.4263181
5513410060 | 0.3581 | 0.4263181
5513410090 | 0.3581 | 0.4263181
5513491000 | 0.3581 | 0.4263181
5513492020 | 0.3581 | 0.4263181
5513492040 | 0.3581 | 0.4263181
5513492090 | 0.3581 | 0.4263181
5513499010 | 0.3581 | 0.4263181
5513499020 | 0.3581 | 0.4263181
5513499030 | 0.3581 | 0.4263181
5513499040 | 0.3581 | 0.4263181
5513499050 | 0.3581 | 0.4263181
5513499060 | 0.3581 | 0.4263181
5513499090 | 0.3581 | 0.4263181
5514110020 | 0.4341 | 0.5167961
5514110030 | 0.4341 | 0.5167961
5514110050 | 0.4341 | 0.5167961
5514110090 | 0.4341 | 0.5167961
5514120020 | 0.4341 | 0.5167961
5514120040 | 0.4341 | 0.5167961
5514191020 | 0.4341 | 0.5167961
5514191040 | 0.4341 | 0.5167961
5514191090 | 0.4341 | 0.5167961
5514199010 | 0.4341 | 0.5167961
5514199020 | 0.4341 | 0.5167961
5514199030 | 0.4341 | 0.5167961
5514199040 | 0.4341 | 0.5167961
5514199090 | 0.4341 | 0.5167961
5514210020 | 0.4341 | 0.5167961
5514210030 | 0.4341 | 0.5167961
5514210050 | 0.4341 | 0.5167961
5514210090 | 0.4341 | 0.5167961
5514220020 | 0.4341 | 0.5167961
5514220040 | 0.4341 | 0.5167961
5514230020 | 0.4341 | 0.5167961
5514230040 | 0.4341 | 0.5167961
5514230090 | 0.4341 | 0.5167961
5514290010 | 0.4341 | 0.5167961
5514290020 | 0.4341 | 0.5167961
5514290030 | 0.4341 | 0.5167961
5514290040 | 0.4341 | 0.5167961
5514290090 | 0.4341 | 0.5167961
5514303100 | 0.4341 | 0.5167961
5514303210 | 0.4341 | 0.5167961
5514303215 | 0.4341 | 0.5167961
5514303280 | 0.4341 | 0.5167961
5514303310 | 0.4341 | 0.5167961
5514303390 | 0.4341 | 0.5167961
5514303910 | 0.4341 | 0.5167961
5514303920 | 0.4341 | 0.5167961
5514303990 | 0.4341 | 0.5167961
5514410020 | 0.4341 | 0.5167961
5514410030 | 0.4341 | 0.5167961
5514410050 | 0.4341 | 0.5167961
5514410090 | 0.4341 | 0.5167961
5514420020 | 0.4341 | 0.5167961
5514420040 | 0.4341 | 0.5167961
5514430020 | 0.4341 | 0.5167961
5514430040 | 0.4341 | 0.5167961
5514430090 | 0.4341 | 0.5167961
5514490010 | 0.4341 | 0.5167961
5514490020 | 0.4341 | 0.5167961
5514490030 | 0.4341 | 0.5167961
5514490040 | 0.4341 | 0.5167961
5514490090 | 0.4341 | 0.5167961
5515110005 | 0.1085 | 0.1291693
5515110010 | 0.1085 | 0.1291693
5515110015 | 0.1085 | 0.1291693
5515110020 | 0.1085 | 0.1291693
5515110025 | 0.1085 | 0.1291693
5515110030 | 0.1085 | 0.1291693
5515110035 | 0.1085 | 0.1291693
5515110040 | 0.1085 | 0.1291693
5515110045 | 0.1085 | 0.1291693
5515110090 | 0.1085 | 0.1291693
5515120010 | 0.1085 | 0.1291693
5515120022 | 0.1085 | 0.1291693
5515120027 | 0.1085 | 0.1291693
5515120030 | 0.1085 | 0.1291693
5515120040 | 0.1085 | 0.1291693
5515120090 | 0.1085 | 0.1291693
5515190005 | 0.1085 | 0.1291693
5515190010 | 0.1085 | 0.1291693
5515190015 | 0.1085 | 0.1291693
5515190020 | 0.1085 | 0.1291693
5515190025 | 0.1085 | 0.1291693
5515190030 | 0.1085 | 0.1291693
5515190035 | 0.1085 | 0.1291693
5515190040 | 0.1085 | 0.1291693
5515190045 | 0.1085 | 0.1291693
5515190090 | 0.1085 | 0.1291693
5515290005 | 0.1085 | 0.1291693
5515290010 | 0.1085 | 0.1291693
5515290015 | 0.1085 | 0.1291693
5515290020 | 0.1085 | 0.1291693
5515290025 | 0.1085 | 0.1291693
5515290030 | 0.1085 | 0.1291693
5515290035 | 0.1085 | 0.1291693
5515290040 | 0.1085 | 0.1291693
5515290045 | 0.1085 | 0.1291693
5515290090 | 0.1085 | 0.1291693
5515999005 | 0.1085 | 0.1291693
5515999010 | 0.1085 | 0.1291693
5515999015 | 0.1085 | 0.1291693
5515999020 | 0.1085 | 0.1291693
5515999025 | 0.1085 | 0.1291693
5515999030 | 0.1085 | 0.1291693
5515999035 | 0.1085 | 0.1291693
5515999040 | 0.1085 | 0.1291693
5515999045 | 0.1085 | 0.1291693
5515999090 | 0.1085 | 0.1291693
5516210010 | 0.1085 | 0.1291693
5516210020 | 0.1085 | 0.1291693
5516210030 | 0.1085 | 0.1291693
5516210040 | 0.1085 | 0.1291693
5516210090 | 0.1085 | 0.1291693
5516220010 | 0.1085 | 0.1291693
5516220020 | 0.1085 | 0.1291693
5516220030 | 0.1085 | 0.1291693
5516220040 | 0.1085 | 0.1291693
5516220090 | 0.1085 | 0.1291693
5516230010 | 0.1085 | 0.1291693
5516230020 | 0.1085 | 0.1291693
5516230030 | 0.1085 | 0.1291693
5516230040 | 0.1085 | 0.1291693
5516230090 | 0.1085 | 0.1291693
5516240010 | 0.1085 | 0.1291693
5516240020 | 0.1085 | 0.1291693
5516240030 | 0.1085 | 0.1291693
5516240040 | 0.1085 | 0.1291693
5516240085 | 0.1085 | 0.1291693
5516240095 | 0.1085 | 0.1291693
5516410010 | 0.3798 | 0.4521519
5516410022 | 0.3798 | 0.4521519
5516410027 | 0.3798 | 0.4521519
5516410030 | 0.3798 | 0.4521519
5516410040 | 0.3798 | 0.4521519
5516410050 | 0.3798 | 0.4521519
5516410060 | 0.3798 | 0.4521519
5516410070 | 0.3798 | 0.4521519
5516410090 | 0.3798 | 0.4521519
5516420010 | 0.3798 | 0.4521519
5516420022 | 0.3798 | 0.4521519
5516420027 | 0.3798 | 0.4521519
5516420030 | 0.3798 | 0.4521519
5516420040 | 0.3798 | 0.4521519
5516420050 | 0.3798 | 0.4521519
5516420060 | 0.3798 | 0.4521519
5516420070 | 0.3798 | 0.4521519
5516420090 | 0.3798 | 0.4521519
5516430010 | 0.217 | 0.2583385
5516430015 | 0.3798 | 0.4521519
5516430020 | 0.3798 | 0.4521519
5516430035 | 0.3798 | 0.4521519
5516430080 | 0.3798 | 0.4521519
5516440010 | 0.3798 | 0.4521519
5516440022 | 0.3798 | 0.4521519
5516440027 | 0.3798 | 0.4521519
5516440030 | 0.3798 | 0.4521519
5516440040 | 0.3798 | 0.4521519
5516440050 | 0.3798 | 0.4521519
5516440060 | 0.3798 | 0.4521519
5516440070 | 0.3798 | 0.4521519
5516440090 | 0.3798 | 0.4521519
5516910010 | 0.0543 | 0.0646442
5516910020 | 0.0543 | 0.0646442
5516910030 | 0.0543 | 0.0646442
5516910040 | 0.0543 | 0.0646442
5516910050 | 0.0543 | 0.0646442
5516910060 | 0.0543 | 0.0646442
5516910070 | 0.0543 | 0.0646442
5516910090 | 0.0543 | 0.0646442
5516920010 | 0.0543 | 0.0646442
5516920020 | 0.0543 | 0.0646442
5516920030 | 0.0543 | 0.0646442
5516920040 | 0.0543 | 0.0646442
5516920050 | 0.0543 | 0.0646442
5516920060 | 0.0543 | 0.0646442
5516920070 | 0.0543 | 0.0646442
5516920090 | 0.0543 | 0.0646442
5516930010 | 0.0543 | 0.0646442
5516930020 | 0.0543 | 0.0646442
5516930090 | 0.0543 | 0.0646442
5516940010 | 0.0543 | 0.0646442
5516940020 | 0.0543 | 0.0646442
5516940030 | 0.0543 | 0.0646442
5516940040 | 0.0543 | 0.0646442
5516940050 | 0.0543 | 0.0646442
5516940060 | 0.0543 | 0.0646442
5516940070 | 0.0543 | 0.0646442
5516940090 | 0.0543 | 0.0646442
5601210010 | 0.9767 | 1.1627614
5601210090 | 0.9767 | 1.1627614
5601220010 | 0.9767 | 1.1627614
5601220090 | 0.9767 | 1.1627614
5601300000 | 0.3256 | 0.3876268
5602101000 | 0.0543 | 0.0646442
5602109090 | 0.4341 | 0.5167961
5602290000 | 0.4341 | 0.5167961
5602909000 | 0.3256 | 0.3876268
5603143000 | 0.2713 | 0.3229827
5603910010 | 0.0217 | 0.0258339
5603910090 | 0.0651 | 0.0775016
5603920010 | 0.0217 | 0.0258339
5603920090 | 0.0651 | 0.0775016
5603930010 | 0.0217 | 0.0258339
5603930090 | 0.0651 | 0.0775016
5603941090 | 0.3256 | 0.3876268
5603943000 | 0.1628 | 0.1938134
5603949010 | 0.0326 | 0.0388103
5604100000 | 0.2632 | 0.3133396
5604909000 | 0.2105 | 0.2506003
5605009000 | 0.1579 | 0.1879800
5606000010 | 0.1263 | 0.1503602
5606000090 | 0.1263 | 0.1503602
5607502500 | 0.1684 | 0.2004802
5607909000 | 0.8421 | 1.0025201
5608901000 | 1.0526 | 1.2531203
5608902300 | 0.6316 | 0.7519198
5608902700 | 0.6316 | 0.7519198
5608903000 | 0.3158 | 0.3759599
5609001000 | 0.8421 | 1.0025201
5609004000 | 0.2105 | 0.2506003
5701101300 | 0.0526 | 0.0626203
5701101600 | 0.0526 | 0.0626203
5701104000 | 0.0526 | 0.0626203
5701109000 | 0.0526 | 0.0626203
5701901010 | 1 | 1.1905000
5701901020 | 1 | 1.1905000
5701901030 | 0.0526 | 0.0626203
5701901090 | 0.0526 | 0.0626203
5701902010 | 0.9474 | 1.1278797
5701902020 | 0.9474 | 1.1278797
5701902030 | 0.0526 | 0.0626203
5701902090 | 0.0526 | 0.0626203
5702101000 | 0.0447 | 0.0532154
5702109010 | 0.0447 | 0.0532154
5702109020 | 0.85 | 1.0119250
5702109030 | 0.0447 | 0.0532154
5702109090 | 0.0447 | 0.0532154
5702201000 | 0.0447 | 0.0532154
5702311000 | 0.0447 | 0.0532154
5702312000 | 0.0895 | 0.1065498
5702322000 | 0.0895 | 0.1065498
5702391000 | 0.0895 | 0.1065498
5702392010 | 0.8053 | 0.9587097
5702392090 | 0.0447 | 0.0532154
5702411000 | 0.0447 | 0.0532154
5702412000 | 0.0447 | 0.0532154
5702421000 | 0.0895 | 0.1065498
5702422020 | 0.0895 | 0.1065498
5702422080 | 0.0895 | 0.1065498
5702491020 | 0.8947 | 1.0651404
5702491080 | 0.8947 | 1.0651404
5702492000 | 0.0895 | 0.1065498
5702502000 | 0.0895 | 0.1065498
5702504000 | 0.0447 | 0.0532154
5702505200 | 0.0895 | 0.1065498
5702505600 | 0.85 | 1.0119250
5702912000 | 0.0447 | 0.0532154
5702913000 | 0.0447 | 0.0532154
5702914000 | 0.0447 | 0.0532154
5702921000 | 0.0447 | 0.0532154
5702929000 | 0.0447 | 0.0532154
5702990500 | 0.8947 | 1.0651404
5702991500 | 0.8947 | 1.0651404
5703201000 | 0.0452 | 0.0538106
5703202010 | 0.0452 | 0.0538106
5703302000 | 0.0452 | 0.0538106
5703900000 | 0.3615 | 0.4303658
5705001000 | 0.0452 | 0.0538106
5705002005 | 0.0452 | 0.0538106
5705002015 | 0.0452 | 0.0538106
5705002020 | 0.7682 | 0.9145421
5705002030 | 0.0452 | 0.0538106
5705002090 | 0.1808 | 0.2152424
5801210000 | 0.9767 | 1.1627614
5801221000 | 0.9767 | 1.1627614
5801229000 | 0.9767 | 1.1627614
5801230000 | 0.9767 | 1.1627614
5801260010 | 0.7596 | 0.9043038
5801260020 | 0.7596 | 0.9043038
5801271000 | 0.9767 | 1.1627614
5801275010 | 1.0852 | 1.2919306
5801275020 | 0.9767 | 1.1627614
5801310000 | 0.217 | 0.2583385
5801320000 | 0.217 | 0.2583385
5801330000 | 0.217 | 0.2583385
5801360010 | 0.217 | 0.2583385
5801360020 | 0.217 | 0.2583385
5802110000 | 1.0309 | 1.2272865
5802190000 | 1.0309 | 1.2272865
5802200020 | 0.1085 | 0.1291693
5802200090 | 0.3256 | 0.3876268
5802300030 | 0.4341 | 0.5167961
5802300090 | 0.1085 | 0.1291693
5803001000 | 1.0852 | 1.2919306
5803002000 | 0.8681 | 1.0334731
5803003000 | 0.8681 | 1.0334731
5803005000 | 0.3256 | 0.3876268
5804101000 | 0.4341 | 0.5167961
5804109090 | 0.2193 | 0.2610767
5804291000 | 0.8772 | 1.0443066
5804300020 | 0.3256 | 0.3876268
5805001000 | 0.1085 | 0.1291693
5805003000 | 1.0852 | 1.2919306
5806101000 | 0.8681 | 1.0334731
5806103090 | 0.217 | 0.2583385
5806200010 | 0.2577 | 0.3067919
5806200090 | 0.2577 | 0.3067919
5806310000 | 0.8681 | 1.0334731
5806393080 | 0.217 | 0.2583385
5806400000 | 0.0814 | 0.0969067
5807100510 | 0.8681 | 1.0334731
5807102010 | 0.8681 | 1.0334731
5807900510 | 0.8681 | 1.0334731
5807902010 | 0.8681 | 1.0334731
5808104000 | 0.217 | 0.2583385
5808107000 | 0.217 | 0.2583385
5808900010 | 0.4341 | 0.5167961
5810100000 | 0.3256 | 0.3876268
5810910010 | 0.7596 | 0.9043038
5810910020 | 0.7596 | 0.9043038
5810921000 | 0.217 | 0.2583385
5810929030 | 0.217 | 0.2583385
5810929050 | 0.217 | 0.2583385
5810929080 | 0.217 | 0.2583385
5811002000 | 0.8681 | 1.0334731
5901102000 | 0.5643 | 0.6717992
5901904000 | 0.8139 | 0.9689480
5903101000 | 0.4341 | 0.5167961
5903103000 | 0.1085 | 0.1291693
5903201000 | 0.4341 | 0.5167961
5903203090 | 0.1085 | 0.1291693
5903901000 | 0.4341 | 0.5167961
5903903090 | 0.1085 | 0.1291693
5904901000 | 0.0326 | 0.0388103
5905001000 | 0.1085 | 0.1291693
5905009000 | 0.1085 | 0.1291693
5906100000 | 0.4341 | 0.5167961
5906911000 | 0.4341 | 0.5167961
5906913000 | 0.1085 | 0.1291693
5906991000 | 0.4341 | 0.5167961
5906993000 | 0.1085 | 0.1291693
5907002500 | 0.3798 | 0.4521519
5907003500 | 0.3798 | 0.4521519
5907008090 | 0.3798 | 0.4521519
5908000000 | 0.7813 | 0.9301377
5909001000 | 0.6837 | 0.8139449
5909002000 | 0.4883 | 0.5813212
5910001010 | 0.3798 | 0.4521519
5910001020 | 0.3798 | 0.4521519
5910001030 | 0.3798 | 0.4521519
5910001060 | 0.3798 | 0.4521519
5910001070 | 0.3798 | 0.4521519
5910001090 | 0.6837 | 0.8139449
5910009000 | 0.5697 | 0.6782279
5911101000 | 0.1736 | 0.2066708
5911102000 | 0.0434 | 0.0516677
5911201000 | 0.4341 | 0.5167961
5911310010 | 0.4341 | 0.5167961
5911310020 | 0.4341 | 0.5167961
5911310030 | 0.4341 | 0.5167961
5911310080 | 0.4341 | 0.5167961
5911320010 | 0.4341 | 0.5167961
5911320020 | 0.4341 | 0.5167961
5911320030 | 0.4341 | 0.5167961
5911320080 | 0.4341 | 0.5167961
5911400000 | 0.5426 | 0.6459653
5911900040 | 0.3158 | 0.3759599
5911900080 | 0.2105 | 0.2506003
6001106000 | 0.1096 | 0.1304788
6001210000 | 0.9868 | 1.1747854
6001220000 | 0.1096 | 0.1304788
6001290000 | 0.1096 | 0.1304788
6001910010 | 0.8772 | 1.0443066
6001910020 | 0.8772 | 1.0443066
6001920010 | 0.0548 | 0.0652394
6001920020 | 0.0548 | 0.0652394
6001920030 | 0.0548 | 0.0652394
6001920040 | 0.0548 | 0.0652394
6001999000 | 0.1096 | 0.1304788
6002404000 | 0.7401 | 0.8810891
6002408020 | 0.1974 | 0.2350047
6002408080 | 0.1974 | 0.2350047
6002904000 | 0.7895 | 0.9398998
6002908020 | 0.1974 | 0.2350047
6002908080 | 0.1974 | 0.2350047
6003201000 | 0.8772 | 1.0443066
6003203000 | 0.8772 | 1.0443066
6003301000 | 0.1096 | 0.1304788
6003306000 | 0.1096 | 0.1304788
6003401000 | 0.1096 | 0.1304788
6003406000 | 0.1096 | 0.1304788
6003901000 | 0.1096 | 0.1304788
6003909000 | 0.1096 | 0.1304788
6004100010 | 0.2961 | 0.3525071
6004100025 | 0.2961 | 0.3525071
6004100085 | 0.2961 | 0.3525071
6004902010 | 0.2961 | 0.3525071
6004902025 | 0.2961 | 0.3525071
6004902085 | 0.2961 | 0.3525071
6004909000 | 0.2961 | 0.3525071
6005210000 | 0.7127 | 0.8484694
6005220000 | 0.7127 | 0.8484694
6005230000 | 0.7127 | 0.8484694
6005240000 | 0.7127 | 0.8484694
6005360010 | 0.1096 | 0.1304788
6005360080 | 0.1096 | 0.1304788
6005370010 | 0.1096 | 0.1304788
6005370080 | 0.1096 | 0.1304788
6005380010 | 0.1096 | 0.1304788
6005380080 | 0.1096 | 0.1304788
6005390010 | 0.1096 | 0.1304788
6005390080 | 0.1096 | 0.1304788
6005410010 | 0.1096 | 0.1304788
6005410080 | 0.1096 | 0.1304788
6005420010 | 0.1096 | 0.1304788
6005420080 | 0.1096 | 0.1304788
6005430010 | 0.1096 | 0.1304788
6005430080 | 0.1096 | 0.1304788
6005440010 | 0.1096 | 0.1304788
6005440080 | 0.1096 | 0.1304788
6005909000 | 0.1096 | 0.1304788
6006211000 | 1.0965 | 1.3053833
6006219020 | 0.7675 | 0.9137088
6006219080 | 0.7675 | 0.9137088
6006221000 | 1.0965 | 1.3053833
6006229020 | 0.7675 | 0.9137088
6006229080 | 0.7675 | 0.9137088
6006231000 | 1.0965 | 1.3053833
6006239020 | 0.7675 | 0.9137088
6006239080 | 0.7675 | 0.9137088
6006241000 | 1.0965 | 1.3053833
6006249020 | 0.7675 | 0.9137088
6006249080 | 0.7675 | 0.9137088
6006310020 | 0.3289 | 0.3915555
6006310040 | 0.3289 | 0.3915555
6006310060 | 0.3289 | 0.3915555
6006310080 | 0.3289 | 0.3915555
6006320020 | 0.3289 | 0.3915555
6006320040 | 0.3289 | 0.3915555
6006320060 | 0.3289 | 0.3915555
6006320080 | 0.3289 | 0.3915555
6006330020 | 0.3289 | 0.3915555
6006330040 | 0.3289 | 0.3915555
6006330060 | 0.3289 | 0.3915555
6006330080 | 0.3289 | 0.3915555
6006340020 | 0.3289 | 0.3915555
6006340040 | 0.3289 | 0.3915555
6006340060 | 0.3289 | 0.3915555
6006340080 | 0.3289 | 0.3915555
6006410025 | 0.3289 | 0.3915555
6006410085 | 0.3289 | 0.3915555
6006420025 | 0.3289 | 0.3915555
6006420085 | 0.3289 | 0.3915555
6006430025 | 0.3289 | 0.3915555
6006430085 | 0.3289 | 0.3915555
6006440025 | 0.3289 | 0.3915555
6006440085 | 0.3289 | 0.3915555
6006909000 | 0.1096 | 0.1304788
6101200010 | 1.02 | 1.2143100
6101200020 | 1.02 | 1.2143100
6101301000 | 0.2072 | 0.2466716
6101900500 | 0.1912 | 0.2276236
6101909010 | 0.5737 | 0.6829899
6101909030 | 0.51 | 0.6071550
6101909060 | 0.255 | 0.3035775
6102100000 | 0.255 | 0.3035775
6102200010 | 0.9562 | 1.1383561
6102200020 | 0.9562 | 1.1383561
6102300500 | 0.1785 | 0.2125043
6102909005 | 0.5737 | 0.6829899
6102909015 | 0.4462 | 0.5312011
6102909030 | 0.255 | 0.3035775
6103101000 | 0.0637 | 0.0758349
6103104000 | 0.1218 | 0.1450029
6103105000 | 0.1218 | 0.1450029
6103106010 | 0.8528 | 1.0152584
6103106015 | 0.8528 | 1.0152584
6103106030 | 0.8528 | 1.0152584
6103109010 | 0.5482 | 0.6526321
6103109020 | 0.5482 | 0.6526321
6103109030 | 0.5482 | 0.6526321
6103109040 | 0.1218 | 0.1450029
6103109050 | 0.1218 | 0.1450029
6103109080 | 0.1827 | 0.2175044
6103320000 | 0.8722 | 1.0383541
6103398010 | 0.7476 | 0.8900178
6103398030 | 0.3738 | 0.4450089
6103398060 | 0.2492 | 0.2966726
6103411010 | 0.3576 | 0.4257228
6103411020 | 0.3576 | 0.4257228
6103412000 | 0.3576 | 0.4257228
6103421020 | 0.8343 | 0.9932342
6103421035 | 0.8343 | 0.9932342
6103421040 | 0.8343 | 0.9932342
6103421050 | 0.8343 | 0.9932342
6103421065 | 0.8343 | 0.9932342
6103421070 | 0.8343 | 0.9932342
6103422010 | 0.8343 | 0.9932342
6103422015 | 0.8343 | 0.9932342
6103422025 | 0.8343 | 0.9932342
6103431520 | 0.2384 | 0.2838152
6103431535 | 0.2384 | 0.2838152
6103431540 | 0.2384 | 0.2838152
6103431550 | 0.2384 | 0.2838152
6103431565 | 0.2384 | 0.2838152
6103431570 | 0.2384 | 0.2838152
6103432020 | 0.2384 | 0.2838152
6103432025 | 0.2384 | 0.2838152
6103491020 | 0.2437 | 0.2901249
6103491060 | 0.2437 | 0.2901249
6103492000 | 0.2437 | 0.2901249
6103498010 | 0.5482 | 0.6526321
6103498014 | 0.3655 | 0.4351278
6103498024 | 0.2437 | 0.2901249
6103498026 | 0.2437 | 0.2901249
6103498034 | 0.5482 | 0.6526321
6103498038 | 0.3655 | 0.4351278
6103498060 | 0.2437 | 0.2901249
6104196010 | 0.8722 | 1.0383541
6104196020 | 0.8722 | 1.0383541
6104196030 | 0.8722 | 1.0383541
6104196040 | 0.8722 | 1.0383541
6104198010 | 0.5607 | 0.6675134
6104198020 | 0.5607 | 0.6675134
6104198030 | 0.5607 | 0.6675134
6104198040 | 0.5607 | 0.6675134
6104198060 | 0.3738 | 0.4450089
6104198090 | 0.2492 | 0.2966726
6104320000 | 0.8722 | 1.0383541
6104392010 | 0.5607 | 0.6675134
6104392030 | 0.3738 | 0.4450089
6104392090 | 0.2492 | 0.2966726
6104420010 | 0.8528 | 1.0152584
6104420020 | 0.8528 | 1.0152584
6104499010 | 0.5482 | 0.6526321
6104499030 | 0.3655 | 0.4351278
6104499060 | 0.2437 | 0.2901249
6104520010 | 0.8822 | 1.0502591
6104520020 | 0.8822 | 1.0502591
6104598010 | 0.5672 | 0.6752516
6104598030 | 0.3781 | 0.4501281
6104598090 | 0.2521 | 0.3001251
6104610010 | 0.2384 | 0.2838152
6104610020 | 0.2384 | 0.2838152
6104610030 | 0.2384 | 0.2838152
6104621010 | 0.7509 | 0.8939465
6104621020 | 0.8343 | 0.9932342
6104621030 | 0.8343 | 0.9932342
6104622006 | 0.7151 | 0.8513266
6104622011 | 0.8343 | 0.9932342
6104622016 | 0.7151 | 0.8513266
6104622021 | 0.8343 | 0.9932342
6104622026 | 0.7151 | 0.8513266
6104622028 | 0.8343 | 0.9932342
6104622030 | 0.8343 | 0.9932342
6104622050 | 0.8343 | 0.9932342
6104622060 | 0.8343 | 0.9932342
6104631020 | 0.2384 | 0.2838152
6104631030 | 0.2384 | 0.2838152
6104632006 | 0.8343 | 0.9932342
6104632011 | 0.8343 | 0.9932342
6104632016 | 0.7151 | 0.8513266
6104632021 | 0.8343 | 0.9932342
6104632026 | 0.3576 | 0.4257228
6104632028 | 0.3576 | 0.4257228
6104632030 | 0.3576 | 0.4257228
6104632050 | 0.7151 | 0.8513266
6104632060 | 0.3576 | 0.4257228
6104691000 | 0.3655 | 0.4351278
6104692030 | 0.3655 | 0.4351278
6104692060 | 0.3655 | 0.4351278
6104698010 | 0.5482 | 0.6526321
6104698014 | 0.3655 | 0.4351278
6104698020 | 0.2437 | 0.2901249
6104698022 | 0.5482 | 0.6526321
6104698026 | 0.3655 | 0.4351278
6104698038 | 0.2437 | 0.2901249
6104698040 | 0.2437 | 0.2901249
6105100010 | 0.9332 | 1.1109746
6105100020 | 0.9332 | 1.1109746
6105100030 | 0.9332 | 1.1109746
6105202010 | 0.2916 | 0.3471498
6105202020 | 0.2916 | 0.3471498
6105202030 | 0.2916 | 0.3471498
6105908010 | 0.5249 | 0.6248935
6105908030 | 0.3499 | 0.4165560
6105908060 | 0.2333 | 0.2777437
6106100010 | 0.9332 | 1.1109746
6106100020 | 0.9332 | 1.1109746
6106100030 | 0.9332 | 1.1109746
6106202010 | 0.2916 | 0.3471498
6106202020 | 0.4666 | 0.5554873
6106202030 | 0.2916 | 0.3471498
6106901500 | 0.0583 | 0.0694062
6106902510 | 0.5249 | 0.6248935
6106902530 | 0.3499 | 0.4165560
6106902550 | 0.2916 | 0.3471498
6106903010 | 0.5249 | 0.6248935
6106903030 | 0.3499 | 0.4165560
6106903040 | 0.2916 | 0.3471498
6107110010 | 1.0727 | 1.2770494
6107110020 | 1.0727 | 1.2770494
6107120010 | 0.4767 | 0.5675114
6107120020 | 0.4767 | 0.5675114
6107191000 | 0.1192 | 0.1419076
6107210010 | 0.8343 | 0.9932342
6107210020 | 0.7151 | 0.8513266
6107220010 | 0.3576 | 0.4257228
6107220015 | 0.1192 | 0.1419076
6107220025 | 0.2384 | 0.2838152
6107299000 | 0.1788 | 0.2128614
6107910030 | 1.1918 | 1.4188379
6107910040 | 1.1918 | 1.4188379
6107910090 | 0.9535 | 1.1351418
6107991030 | 0.3576 | 0.4257228
6107991040 | 0.3576 | 0.4257228
6107991090 | 0.3576 | 0.4257228
6107999000 | 0.1192 | 0.1419076
6108199010 | 1.0611 | 1.2632396
6108199030 | 0.2358 | 0.2807199
6108210010 | 1.179 | 1.4035995
6108210020 | 1.179 | 1.4035995
6108299000 | 0.3537 | 0.4210799
6108310010 | 1.0611 | 1.2632396
6108310020 | 1.0611 | 1.2632396
6108320010 | 0.2358 | 0.2807199
6108320015 | 0.2358 | 0.2807199
6108320025 | 0.2358 | 0.2807199
6108398000 | 0.3537 | 0.4210799
6108910005 | 1.179 | 1.4035995
6108910015 | 1.179 | 1.4035995
6108910025 | 1.179 | 1.4035995
6108910030 | 1.179 | 1.4035995
6108910040 | 1.179 | 1.4035995
6108920005 | 0.2358 | 0.2807199
6108920015 | 0.2358 | 0.2807199
6108920025 | 0.2358 | 0.2807199
6108920030 | 0.2358 | 0.2807199
6108920040 | 0.2358 | 0.2807199
6108999000 | 0.3537 | 0.4210799
6109100004 | 1.0022 | 1.1931191
6109100007 | 1.0022 | 1.1931191
6109100011 | 1.0022 | 1.1931191
6109100012 | 1.0022 | 1.1931191
6109100014 | 1.0022 | 1.1931191
6109100018 | 1.0022 | 1.1931191
6109100023 | 1.0022 | 1.1931191
6109100027 | 1.0022 | 1.1931191
6109100037 | 1.0022 | 1.1931191
6109100040 | 1.0022 | 1.1931191
6109100045 | 1.0022 | 1.1931191
6109100060 | 1.0022 | 1.1931191
6109100065 | 1.0022 | 1.1931191
6109100070 | 1.0022 | 1.1931191
6109901007 | 0.2948 | 0.3509594
6109901009 | 0.2948 | 0.3509594
6109901013 | 0.2948 | 0.3509594
6109901025 | 0.2948 | 0.3509594
6109901047 | 0.2948 | 0.3509594
6109901049 | 0.2948 | 0.3509594
6109901050 | 0.2948 | 0.3509594
6109901060 | 0.2948 | 0.3509594
6109901065 | 0.2948 | 0.3509594
6109901070 | 0.2948 | 0.3509594
6109901075 | 0.2948 | 0.3509594
6109901090 | 0.2948 | 0.3509594
6109908010 | 0.3499 | 0.4165560
6109908030 | 0.2333 | 0.2777437
6110201010 | 0.7476 | 0.8900178
6110201020 | 0.7476 | 0.8900178
6110201022 | 0.7476 | 0.8900178
6110201024 | 0.7476 | 0.8900178
6110201026 | 0.7476 | 0.8900178
6110201029 | 0.7476 | 0.8900178
6110201031 | 0.7476 | 0.8900178
6110201033 | 0.7476 | 0.8900178
6110202005 | 1.1214 | 1.3350267
6110202010 | 1.1214 | 1.3350267
6110202015 | 1.1214 | 1.3350267
6110202020 | 1.1214 | 1.3350267
6110202025 | 1.1214 | 1.3350267
6110202030 | 1.1214 | 1.3350267
6110202035 | 1.1214 | 1.3350267
6110202041 | 1.0965 | 1.3053833
6110202044 | 1.0965 | 1.3053833
6110202046 | 1.0965 | 1.3053833
6110202049 | 1.0965 | 1.3053833
6110202067 | 1.0965 | 1.3053833
6110202069 | 1.0965 | 1.3053833
6110202077 | 1.0965 | 1.3053833
6110202079 | 1.0965 | 1.3053833
6110909010 | 0.5607 | 0.6675134
6110909012 | 0.1246 | 0.1483363
6110909014 | 0.3738 | 0.4450089
6110909026 | 0.5607 | 0.6675134
6110909028 | 0.1869 | 0.2225045
6110909030 | 0.3738 | 0.4450089
6110909044 | 0.5607 | 0.6675134
6110909046 | 0.5607 | 0.6675134
6110909052 | 0.3738 | 0.4450089
6110909054 | 0.3738 | 0.4450089
6110909064 | 0.2492 | 0.2966726
6110909066 | 0.2492 | 0.2966726
6110909067 | 0.5607 | 0.6675134
6110909069 | 0.5607 | 0.6675134
6110909071 | 0.5607 | 0.6675134
6110909073 | 0.5607 | 0.6675134
6110909079 | 0.3738 | 0.4450089
6110909080 | 0.3738 | 0.4450089
6110909081 | 0.3738 | 0.4450089
6110909082 | 0.3738 | 0.4450089
6110909088 | 0.2492 | 0.2966726
6110909090 | 0.2492 | 0.2966726
6111201000 | 1.1918 | 1.4188379
6111202000 | 1.1918 | 1.4188379
6111203000 | 0.9535 | 1.1351418
6111204000 | 0.9535 | 1.1351418
6111205000 | 0.9535 | 1.1351418
6111206010 | 0.9535 | 1.1351418
6111206020 | 0.9535 | 1.1351418
6111206030 | 0.9535 | 1.1351418
6111206050 | 0.9535 | 1.1351418
6111206070 | 0.9535 | 1.1351418
6111301000 | 0.2384 | 0.2838152
6111302000 | 0.2384 | 0.2838152
6111303000 | 0.2384 | 0.2838152
6111304000 | 0.2384 | 0.2838152
6111305010 | 0.2384 | 0.2838152
6111305015 | 0.2384 | 0.2838152
6111305020 | 0.2384 | 0.2838152
6111305030 | 0.2384 | 0.2838152
6111305050 | 0.2384 | 0.2838152
6111305070 | 0.2384 | 0.2838152
6111901000 | 0.2384 | 0.2838152
6111902000 | 0.2384 | 0.2838152
6111903000 | 0.2384 | 0.2838152
6111904000 | 0.2384 | 0.2838152
6111905010 | 0.2384 | 0.2838152
6111905020 | 0.2384 | 0.2838152
6111905030 | 0.2384 | 0.2838152
6111905050 | 0.2384 | 0.2838152
6111905070 | 0.2384 | 0.2838152
6112110010 | 0.9535 | 1.1351418
6112110020 | 0.9535 | 1.1351418
6112110030 | 0.9535 | 1.1351418
6112110040 | 0.9535 | 1.1351418
6112110050 | 0.9535 | 1.1351418
6112110060 | 0.9535 | 1.1351418
6112120010 | 0.2384 | 0.2838152
6112120020 | 0.2384 | 0.2838152
6112120030 | 0.2384 | 0.2838152
6112120040 | 0.2384 | 0.2838152
6112120050 | 0.2384 | 0.2838152
6112120060 | 0.2384 | 0.2838152
6112191010 | 0.2492 | 0.2966726
6112191020 | 0.2492 | 0.2966726
6112191030 | 0.2492 | 0.2966726
6112191040 | 0.2492 | 0.2966726
6112191050 | 0.2492 | 0.2966726
6112191060 | 0.2492 | 0.2966726
6112201060 | 0.2492 | 0.2966726
6112201070 | 0.2492 | 0.2966726
6112201080 | 0.2492 | 0.2966726
6112201090 | 0.2492 | 0.2966726
6112202010 | 0.8722 | 1.0383541
6112202020 | 0.3738 | 0.4450089
6112202030 | 0.2492 | 0.2966726
6112310010 | 0.1192 | 0.1419076
6112310020 | 0.1192 | 0.1419076
6112390010 | 1.0727 | 1.2770494
6112410010 | 0.1192 | 0.1419076
6112410020 | 0.1192 | 0.1419076
6112410030 | 0.1192 | 0.1419076
6112410040 | 0.1192 | 0.1419076
6112490010 | 0.8939 | 1.0641880
6113001005 | 0.1246 | 0.1483363
6113001010 | 0.1246 | 0.1483363
6113001012 | 0.1246 | 0.1483363
6113009015 | 0.3489 | 0.4153655
6113009020 | 0.3489 | 0.4153655
6113009038 | 0.3489 | 0.4153655
6113009042 | 0.3489 | 0.4153655
6113009055 | 0.3489 | 0.4153655
6113009060 | 0.3489 | 0.4153655
6113009074 | 0.3489 | 0.4153655
6113009082 | 0.3489 | 0.4153655
6114200005 | 0.9747 | 1.1603804
6114200010 | 0.9747 | 1.1603804
6114200015 | 0.8528 | 1.0152584
6114200020 | 0.8528 | 1.0152584
6114200035 | 0.8528 | 1.0152584
6114200040 | 0.8528 | 1.0152584
6114200042 | 0.3655 | 0.4351278
6114200044 | 0.8528 | 1.0152584
6114200046 | 0.8528 | 1.0152584
6114200048 | 0.8528 | 1.0152584
6114200052 | 0.8528 | 1.0152584
6114200055 | 0.8528 | 1.0152584
6114200060 | 0.8528 | 1.0152584
6114301010 | 0.2437 | 0.2901249
6114301020 | 0.2437 | 0.2901249
6114302060 | 0.1218 | 0.1450029
6114303014 | 0.2437 | 0.2901249
6114303020 | 0.2437 | 0.2901249
6114303030 | 0.2437 | 0.2901249
6114303042 | 0.2437 | 0.2901249
6114303044 | 0.2437 | 0.2901249
6114303052 | 0.2437 | 0.2901249
6114303054 | 0.2437 | 0.2901249
6114303060 | 0.2437 | 0.2901249
6114303070 | 0.2437 | 0.2901249
6114909045 | 0.5482 | 0.6526321
6114909055 | 0.3655 | 0.4351278
6114909070 | 0.3655 | 0.4351278
6115100500 | 0.4386 | 0.5221533
6115101510 | 1.0965 | 1.3053833
6115103000 | 0.9868 | 1.1747854
6115106000 | 0.1096 | 0.1304788
6115298010 | 1.0965 | 1.3053833
6115309030 | 0.7675 | 0.9137088
6115956000 | 0.9868 | 1.1747854
6115959000 | 0.9868 | 1.1747854
6115966020 | 0.2193 | 0.2610767
6115991420 | 0.2193 | 0.2610767
6115991920 | 0.2193 | 0.2610767
6115999000 | 0.1096 | 0.1304788
6116101300 | 0.3463 | 0.4122702
6116101720 | 0.8079 | 0.9618050
6116104810 | 0.4444 | 0.5290582
6116105510 | 0.6464 | 0.7695392
6116107510 | 0.6464 | 0.7695392
6116109500 | 0.1616 | 0.1923848
6116920500 | 0.8079 | 0.9618050
6116920800 | 0.8079 | 0.9618050
6116926410 | 1.0388 | 1.2366914
6116926420 | 1.0388 | 1.2366914
6116926430 | 1.1542 | 1.3740751
6116926440 | 1.0388 | 1.2366914
6116927450 | 1.0388 | 1.2366914
6116927460 | 1.1542 | 1.3740751
6116927470 | 1.0388 | 1.2366914
6116928800 | 1.0388 | 1.2366914
6116929400 | 1.0388 | 1.2366914
6116938800 | 0.1154 | 0.1373837
6116939400 | 0.1154 | 0.1373837
6116994800 | 0.1154 | 0.1373837
6116995400 | 0.1154 | 0.1373837
6116999510 | 0.4617 | 0.5496539
6116999530 | 0.3463 | 0.4122702
6117106010 | 0.9234 | 1.0993077
6117106020 | 0.2308 | 0.2747674
6117808500 | 0.9234 | 1.0993077
6117808710 | 1.1542 | 1.3740751
6117808770 | 0.1731 | 0.2060756
6117809510 | 0.9234 | 1.0993077
6117809540 | 0.3463 | 0.4122702
6117809570 | 0.1731 | 0.2060756
6117909003 | 1.1542 | 1.3740751
6117909015 | 0.2308 | 0.2747674
6117909020 | 1.1542 | 1.3740751
6117909040 | 1.1542 | 1.3740751
6117909060 | 1.1542 | 1.3740751
6117909080 | 1.1542 | 1.3740751
6201121000 | 0.8981 | 1.0691881
6201122010 | 0.8482 | 1.0097821
6201122020 | 0.8482 | 1.0097821
6201122025 | 0.9979 | 1.1880000
6201122035 | 0.9979 | 1.1880000
6201122050 | 0.6486 | 0.7721583
6201122060 | 0.6486 | 0.7721583
6201134015 | 0.1996 | 0.2376238
6201134020 | 0.1996 | 0.2376238
6201134030 | 0.2495 | 0.2970298
6201134040 | 0.2495 | 0.2970298
6201199010 | 0.5613 | 0.6682277
6201199030 | 0.3742 | 0.4454851
6201199060 | 0.3742 | 0.4454851
6201920500 | 0.8779 | 1.0451400
6201921700 | 1.0974 | 1.3064547
6201921905 | 0.9754 | 1.1612137
6201921910 | 0.9754 | 1.1612137
6201921921 | 1.2193 | 1.4515767
6201921931 | 1.2193 | 1.4515767
6201921941 | 1.2193 | 1.4515767
6201921951 | 0.9754 | 1.1612137
6201921961 | 0.9754 | 1.1612137
6201923000 | 0.8779 | 1.0451400
6201923500 | 1.0974 | 1.3064547
6201924505 | 0.9754 | 1.1612137
6201924510 | 0.9754 | 1.1612137
6201924521 | 1.2193 | 1.4515767
6201924531 | 1.2193 | 1.4515767
6201924541 | 1.2193 | 1.4515767
6201924551 | 0.9754 | 1.1612137
6201924561 | 0.9754 | 1.1612137
6201931500 | 0.2926 | 0.3483403
6201931810 | 0.2439 | 0.2903630
6201931820 | 0.2439 | 0.2903630
6201934911 | 0.2439 | 0.2903630
6201934921 | 0.2439 | 0.2903630
6201935000 | 0.2926 | 0.3483403
6201935210 | 0.2439 | 0.2903630
6201935220 | 0.2439 | 0.2903630
6201936511 | 0.2439 | 0.2903630
6201936521 | 0.2439 | 0.2903630
6201991510 | 0.5487 | 0.6532274
6201991530 | 0.3658 | 0.4354849
6201991560 | 0.2439 | 0.2903630
6201998010 | 0.5487 | 0.6532274
6201998030 | 0.3658 | 0.4354849
6201998060 | 0.2439 | 0.2903630
6202121000 | 0.8879 | 1.0570450
6202122010 | 1.0482 | 1.2478821
6202122020 | 1.0482 | 1.2478821
6202122025 | 1.2332 | 1.4681246
6202122035 | 1.2332 | 1.4681246
6202122050 | 0.8016 | 0.9543048
6202122060 | 0.8016 | 0.9543048
6202134005 | 0.2524 | 0.3004822
6202134010 | 0.2524 | 0.3004822
6202134020 | 0.3155 | 0.3756028
6202134030 | 0.3155 | 0.3756028
6202199010 | 0.5678 | 0.6759659
6202199030 | 0.3786 | 0.4507233
6202199060 | 0.2524 | 0.3004822
6202920300 | 0.9865 | 1.1744283
6202920500 | 0.9865 | 1.1744283
6202921210 | 0.9865 | 1.1744283
6202921220 | 0.9865 | 1.1744283
6202921226 | 1.2332 | 1.4681246
6202921231 | 1.2332 | 1.4681246
6202921261 | 0.9865 | 1.1744283
6202921271 | 0.9865 | 1.1744283
6202922500 | 0.9865 | 1.1744283
6202923000 | 0.9865 | 1.1744283
6202929010 | 0.9865 | 1.1744283
6202929020 | 0.9865 | 1.1744283
6202929026 | 1.2332 | 1.4681246
6202929031 | 1.2332 | 1.4681246
6202929061 | 0.9865 | 1.1744283
6202929071 | 0.9865 | 1.1744283
6202930100 | 0.296 | 0.3523880
6202930310 | 0.2466 | 0.2935773
6202930320 | 0.2466 | 0.2935773
6202930911 | 0.2466 | 0.2935773
6202930921 | 0.2466 | 0.2935773
6202931500 | 0.296 | 0.3523880
6202932510 | 0.2466 | 0.2935773
6202932520 | 0.2466 | 0.2935773
6202935511 | 0.2466 | 0.2935773
6202935521 | 0.2466 | 0.2935773
6202991511 | 0.5549 | 0.6606085
6202991531 | 0.37 | 0.4404850
6202991561 | 0.2466 | 0.2935773
6202998011 | 0.5549 | 0.6606085
6202998031 | 0.37 | 0.4404850
6202998061 | 0.2466 | 0.2935773
6203122010 | 0.1233 | 0.1467887
6203122020 | 0.1233 | 0.1467887
6203191010 | 0.9865 | 1.1744283
6203191020 | 0.9865 | 1.1744283
6203191030 | 0.9865 | 1.1744283
6203199010 | 0.5549 | 0.6606085
6203199020 | 0.5549 | 0.6606085
6203199030 | 0.5549 | 0.6606085
6203199050 | 0.37 | 0.4404850
6203199080 | 0.2466 | 0.2935773
6203221000 | 1.2332 | 1.4681246
6203321000 | 0.6782 | 0.8073971
6203322010 | 1.1715 | 1.3946708
6203322020 | 1.1715 | 1.3946708
6203322030 | 1.1715 | 1.3946708
6203322040 | 1.1715 | 1.3946708
6203322050 | 1.1715 | 1.3946708
6203332010 | 0.1233 | 0.1467887
6203332020 | 0.1233 | 0.1467887
6203392010 | 0.1233 | 0.1467887
6203392020 | 0.1233 | 0.1467887
6203399010 | 0.5549 | 0.6606085
6203399030 | 0.37 | 0.4404850
6203399060 | 0.2466 | 0.2935773
6203420300 | 1.0616 | 1.2638348
6203420505 | 0.7077 | 0.8425169
6203420510 | 0.9436 | 1.1233558
6203420525 | 0.9436 | 1.1233558
6203420550 | 0.9436 | 1.1233558
6203420590 | 0.9436 | 1.1233558
6203420703 | 1.0616 | 1.2638348
6203420706 | 1.1796 | 1.4043138
6203420711 | 1.1796 | 1.4043138
6203420716 | 0.9436 | 1.1233558
6203420721 | 1.1796 | 1.4043138
6203420726 | 1.1796 | 1.4043138
6203420731 | 1.1796 | 1.4043138
6203420736 | 1.1796 | 1.4043138
6203420741 | 0.9436 | 1.1233558
6203420746 | 0.9436 | 1.1233558
6203420751 | 0.8752 | 1.0419256
6203420756 | 0.8752 | 1.0419256
6203420761 | 0.8752 | 1.0419256
6203421700 | 1.0616 | 1.2638348
6203422505 | 0.7077 | 0.8425169
6203422510 | 0.9436 | 1.1233558
6203422525 | 0.9436 | 1.1233558
6203422550 | 0.9436 | 1.1233558
6203422590 | 0.9436 | 1.1233558
6203424503 | 1.0616 | 1.2638348
6203424506 | 1.1796 | 1.4043138
6203424511 | 1.1796 | 1.4043138
6203424516 | 0.9436 | 1.1233558
6203424521 | 1.1796 | 1.4043138
6203424526 | 1.1796 | 1.4043138
6203424531 | 1.1796 | 1.4043138
6203424536 | 1.1796 | 1.4043138
6203424541 | 0.9436 | 1.1233558
6203424546 | 0.9436 | 1.1233558
6203424551 | 0.8752 | 1.0419256
6203424556 | 0.8752 | 1.0419256
6203424561 | 0.8752 | 1.0419256
6203430100 | 0.1887 | 0.2246474
6203430300 | 0.118 | 0.1404790
6203430505 | 0.118 | 0.1404790
6203430510 | 0.2359 | 0.2808390
6203430525 | 0.2359 | 0.2808390
6203430550 | 0.2359 | 0.2808390
6203430590 | 0.2359 | 0.2808390
6203431110 | 0.059 | 0.0702395
6203431190 | 0.059 | 0.0702395
6203431310 | 0.1167 | 0.1389314
6203431315 | 0.1167 | 0.1389314
6203431320 | 0.1167 | 0.1389314
6203431330 | 0.1167 | 0.1389314
6203431335 | 0.1167 | 0.1389314
6203431340 | 0.1167 | 0.1389314
6203434500 | 0.1887 | 0.2246474
6203435500 | 0.118 | 0.1404790
6203436005 | 0.118 | 0.1404790
6203436010 | 0.2359 | 0.2808390
6203436025 | 0.2359 | 0.2808390
6203436050 | 0.2359 | 0.2808390
6203436090 | 0.2359 | 0.2808390
6203436500 | 0.4128 | 0.4914384
6203437510 | 0.059 | 0.0702395
6203437590 | 0.059 | 0.0702395
6203439010 | 0.1167 | 0.1389314
6203439015 | 0.1167 | 0.1389314
6203439020 | 0.1167 | 0.1389314
6203439030 | 0.1167 | 0.1389314
6203439035 | 0.1167 | 0.1389314
6203439040 | 0.1167 | 0.1389314
6203490105 | 0.118 | 0.1404790
6203490110 | 0.2359 | 0.2808390
6203490125 | 0.2359 | 0.2808390
6203490150 | 0.2359 | 0.2808390
6203490190 | 0.2359 | 0.2808390
6203490515 | 0.2359 | 0.2808390
6203490520 | 0.2359 | 0.2808390
6203490530 | 0.118 | 0.1404790
6203490545 | 0.118 | 0.1404790
6203490550 | 0.118 | 0.1404790
6203490560 | 0.118 | 0.1404790
6203490920 | 0.5308 | 0.6319174
6203490930 | 0.3539 | 0.4213180
6203490945 | 0.2359 | 0.2808390
6203492505 | 0.118 | 0.1404790
6203492510 | 0.2359 | 0.2808390
6203492525 | 0.2359 | 0.2808390
6203492550 | 0.2359 | 0.2808390
6203492590 | 0.2359 | 0.2808390
6203493500 | 0.4128 | 0.4914384
6203495015 | 0.2359 | 0.2808390
6203495020 | 0.2359 | 0.2808390
6203495030 | 0.118 | 0.1404790
6203495045 | 0.118 | 0.1404790
6203495050 | 0.118 | 0.1404790
6203495060 | 0.118 | 0.1404790
6203499020 | 0.5308 | 0.6319174
6203499030 | 0.3539 | 0.4213180
6203499045 | 0.2359 | 0.2808390
6204110000 | 0.0617 | 0.0734539
6204120010 | 0.9865 | 1.1744283
6204120020 | 0.9865 | 1.1744283
6204120030 | 0.9865 | 1.1744283
6204120040 | 0.9865 | 1.1744283
6204132010 | 0.1233 | 0.1467887
6204132020 | 0.1233 | 0.1467887
6204192000 | 0.1233 | 0.1467887
6204198010 | 0.5549 | 0.6606085
6204198020 | 0.5549 | 0.6606085
6204198030 | 0.5549 | 0.6606085
6204198040 | 0.5549 | 0.6606085
6204198060 | 0.3083 | 0.3670312
6204198090 | 0.2466 | 0.2935773
6204221000 | 1.2332 | 1.4681246
6204321000 | 0.6782 | 0.8073971
6204322010 | 1.1715 | 1.3946708
6204322020 | 1.1715 | 1.3946708
6204322030 | 0.9865 | 1.1744283
6204322040 | 0.9865 | 1.1744283
6204398010 | 0.5549 | 0.6606085
6204398030 | 0.3083 | 0.3670312
6204412010 | 0.0603 | 0.0717872
6204412020 | 0.0603 | 0.0717872
6204421000 | 1.2058 | 1.4355049
6204422000 | 0.6632 | 0.7895396
6204423010 | 1.2058 | 1.4355049
6204423020 | 1.2058 | 1.4355049
6204423030 | 0.9043 | 1.0765692
6204423040 | 0.9043 | 1.0765692
6204423050 | 0.9043 | 1.0765692
6204423060 | 0.9043 | 1.0765692
6204431000 | 0.4823 | 0.5741782
6204432000 | 0.0603 | 0.0717872
6204442000 | 0.4316 | 0.5138198
6204495010 | 0.5549 | 0.6606085
6204495030 | 0.2466 | 0.2935773
6204510010 | 0.0631 | 0.0751206
6204510020 | 0.0631 | 0.0751206
6204521000 | 1.2618 | 1.5021729
6204522010 | 1.1988 | 1.4271714
6204522020 | 1.1988 | 1.4271714
6204522030 | 1.1988 | 1.4271714
6204522040 | 1.1988 | 1.4271714
6204522070 | 1.0095 | 1.2018098
6204522080 | 1.0095 | 1.2018098
6204531000 | 0.4416 | 0.5257248
6204532010 | 0.0631 | 0.0751206
6204532020 | 0.0631 | 0.0751206
6204533010 | 0.2524 | 0.3004822
6204533020 | 0.2524 | 0.3004822
6204591000 | 0.4416 | 0.5257248
6204594010 | 0.5678 | 0.6759659
6204594030 | 0.2524 | 0.3004822
6204594060 | 0.2524 | 0.3004822
6204610510 | 0.059 | 0.0702395
6204610520 | 0.059 | 0.0702395
6204611510 | 0.059 | 0.0702395
6204611520 | 0.059 | 0.0702395
6204611530 | 0.059 | 0.0702395
6204611540 | 0.118 | 0.1404790
6204616010 | 0.059 | 0.0702395
6204616020 | 0.059 | 0.0702395
6204618010 | 0.059 | 0.0702395
6204618020 | 0.059 | 0.0702395
6204618030 | 0.059 | 0.0702395
6204618040 | 0.118 | 0.1404790
6204620300 | 0.8681 | 1.0334731
6204620505 | 0.7077 | 0.8425169
6204620510 | 0.9436 | 1.1233558
6204620525 | 0.9436 | 1.1233558
6204620550 | 0.9436 | 1.1233558
6204621503 | 1.0616 | 1.2638348
6204621506 | 1.1796 | 1.4043138
6204621511 | 1.1796 | 1.4043138
6204621521 | 0.9436 | 1.1233558
6204621526 | 1.1796 | 1.4043138
6204621531 | 1.1796 | 1.4043138
6204621536 | 1.1796 | 1.4043138
6204621541 | 1.1796 | 1.4043138
6204621546 | 0.9436 | 1.1233558
6204621551 | 0.9436 | 1.1233558
6204621556 | 0.9335 | 1.1113318
6204621561 | 0.9335 | 1.1113318
6204621566 | 0.9335 | 1.1113318
6204625000 | 0.8681 | 1.0334731
6204626005 | 0.7077 | 0.8425169
6204626010 | 0.9436 | 1.1233558
6204626025 | 0.9436 | 1.1233558
6204626050 | 0.9436 | 1.1233558
6204627000 | 1.1796 | 1.4043138
6204628003 | 1.0616 | 1.2638348
6204628006 | 1.1796 | 1.4043138
6204628011 | 1.1796 | 1.4043138
6204628021 | 0.9436 | 1.1233558
6204628026 | 1.1796 | 1.4043138
6204628031 | 1.1796 | 1.4043138
6204628036 | 1.1796 | 1.4043138
6204628041 | 1.1796 | 1.4043138
6204628046 | 0.9436 | 1.1233558
6204628051 | 0.9436 | 1.1233558
6204628056 | 0.9335 | 1.1113318
6204628061 | 0.9335 | 1.1113318
6204628066 | 0.9335 | 1.1113318
6204630100 | 0.2019 | 0.2403620
6204630200 | 0.118 | 0.1404790
6204630305 | 0.118 | 0.1404790
6204630310 | 0.2359 | 0.2808390
6204630325 | 0.2359 | 0.2808390
6204630350 | 0.2359 | 0.2808390
6204630810 | 0.059 | 0.0702395
6204630820 | 0.059 | 0.0702395
6204630910 | 0.0603 | 0.0717872
6204630990 | 0.0603 | 0.0717872
6204631110 | 0.2412 | 0.2871486
6204631125 | 0.2412 | 0.2871486
6204631130 | 0.2412 | 0.2871486
6204631132 | 0.2309 | 0.2748865
6204631135 | 0.2309 | 0.2748865
6204631140 | 0.2309 | 0.2748865
6204635000 | 0.2019 | 0.2403620
6204635500 | 0.118 | 0.1404790
6204636005 | 0.118 | 0.1404790
6204636010 | 0.2359 | 0.2808390
6204636025 | 0.2359 | 0.2808390
6204636050 | 0.2359 | 0.2808390
6204636500 | 0.4718 | 0.5616779
6204637010 | 0.059 | 0.0702395
6204637020 | 0.059 | 0.0702395
6204637510 | 0.0603 | 0.0717872
6204637590 | 0.0603 | 0.0717872
6204639010 | 0.2412 | 0.2871486
6204639025 | 0.2412 | 0.2871486
6204639030 | 0.2412 | 0.2871486
6204639032 | 0.2309 | 0.2748865
6204639035 | 0.2309 | 0.2748865
6204639040 | 0.2309 | 0.2748865
6204690105 | 0.118 | 0.1404790
6204690110 | 0.2359 | 0.2808390
6204690110 | 0.2359 | 0.2808390
6204690125 | 0.2359 | 0.2808390
6204690150 | 0.2359 | 0.2808390
6204690210 | 0.059 | 0.0702395
6204690220 | 0.059 | 0.0702395
6204690230 | 0.059 | 0.0702395
6204690310 | 0.2359 | 0.2808390
6204690320 | 0.2359 | 0.2808390
6204690330 | 0.2359 | 0.2808390
6204690340 | 0.2309 | 0.2748865
6204690350 | 0.2309 | 0.2748865
6204690360 | 0.2309 | 0.2748865
6204690510 | 0.5308 | 0.6319174
6204690530 | 0.2359 | 0.2808390
6204690570 | 0.3539 | 0.4213180
6204690610 | 0.5308 | 0.6319174
6204690630 | 0.2359 | 0.2808390
6204690644 | 0.2359 | 0.2808390
6204690646 | 0.2359 | 0.2808390
6204690650 | 0.3539 | 0.4213180
6204691505 | 0.118 | 0.1404790
6204691510 | 0.2359 | 0.2808390
6204691525 | 0.2359 | 0.2808390
6204691525 | 0.2359 | 0.2808390
6204691550 | 0.2359 | 0.2808390
6204692210 | 0.059 | 0.0702395
6204692220 | 0.059 | 0.0702395
6204692230 | 0.059 | 0.0702395
6204692810 | 0.2359 | 0.2808390
6204692820 | 0.2359 | 0.2808390
6204692830 | 0.2359 | 0.2808390
6204692840 | 0.2309 | 0.2748865
6204692850 | 0.2309 | 0.2748865
6204692860 | 0.2309 | 0.2748865
6204696510 | 0.5308 | 0.6319174
6204696530 | 0.2359 | 0.2808390
6204696570 | 0.3539 | 0.4213180
6204698010 | 0.5308 | 0.6319174
6204698030 | 0.2359 | 0.2808390
6204698044 | 0.2359 | 0.2808390
6204698046 | 0.2359 | 0.2808390
6204698050 | 0.3539 | 0.4213180
6205201000 | 1.1796 | 1.4043138
6205202003 | 0.9436 | 1.1233558
6205202016 | 0.9436 | 1.1233558
6205202021 | 0.9436 | 1.1233558
6205202026 | 0.9436 | 1.1233558
6205202031 | 0.9436 | 1.1233558
6205202036 | 1.0616 | 1.2638348
6205202041 | 1.0616 | 1.2638348
6205202044 | 1.0616 | 1.2638348
6205202047 | 0.9436 | 1.1233558
6205202051 | 0.9436 | 1.1233558
6205202056 | 0.9436 | 1.1233558
6205202061 | 0.9436 | 1.1233558
6205202066 | 0.9436 | 1.1233558
6205202071 | 0.9436 | 1.1233558
6205202076 | 0.9436 | 1.1233558
6205301000 | 0.4128 | 0.4914384
6205302010 | 0.2949 | 0.3510785
6205302020 | 0.2949 | 0.3510785
6205302030 | 0.2949 | 0.3510785
6205302040 | 0.2949 | 0.3510785
6205302050 | 0.2949 | 0.3510785
6205302055 | 0.2949 | 0.3510785
6205302060 | 0.2949 | 0.3510785
6205302070 | 0.2949 | 0.3510785
6205302075 | 0.2949 | 0.3510785
6205302080 | 0.2949 | 0.3510785
6205900710 | 0.118 | 0.1404790
6205900720 | 0.118 | 0.1404790
6205901000 | 0.2359 | 0.2808390
6205903010 | 0.5308 | 0.6319174
6205903030 | 0.2359 | 0.2808390
6205903050 | 0.1769 | 0.2105995
6205904010 | 0.5308 | 0.6319174
6205904030 | 0.2359 | 0.2808390
6205904040 | 0.2359 | 0.2808390
6206100010 | 0.5308 | 0.6319174
6206100030 | 0.2359 | 0.2808390
6206100040 | 0.118 | 0.1404790
6206100050 | 0.2359 | 0.2808390
6206203010 | 0.059 | 0.0702395
6206203020 | 0.059 | 0.0702395
6206301000 | 1.1796 | 1.4043138
6206302000 | 0.6488 | 0.7723964
6206303003 | 0.9436 | 1.1233558
6206303011 | 0.9436 | 1.1233558
6206303021 | 0.9436 | 1.1233558
6206303031 | 0.9436 | 1.1233558
6206303041 | 0.9436 | 1.1233558
6206303051 | 0.9436 | 1.1233558
6206303061 | 0.9436 | 1.1233558
6206401000 | 0.4128 | 0.4914384
6206403010 | 0.2949 | 0.3510785
6206403020 | 0.2949 | 0.3510785
6206403025 | 0.2949 | 0.3510785
6206403030 | 0.2949 | 0.3510785
6206403040 | 0.2949 | 0.3510785
6206403050 | 0.2949 | 0.3510785
6206900010 | 0.5308 | 0.6319174
6206900030 | 0.2359 | 0.2808390
6206900040 | 0.1769 | 0.2105995
6207110000 | 1.0281 | 1.2239531
6207199010 | 0.3427 | 0.4079844
6207199030 | 0.4569 | 0.5439395
6207210010 | 1.0502 | 1.2502631
6207210020 | 1.0502 | 1.2502631
6207210030 | 1.0502 | 1.2502631
6207210040 | 1.0502 | 1.2502631
6207220000 | 0.3501 | 0.4167941
6207291000 | 0.1167 | 0.1389314
6207299030 | 0.1167 | 0.1389314
6207911000 | 1.0852 | 1.2919306
6207913010 | 1.0852 | 1.2919306
6207913020 | 1.0852 | 1.2919306
6207997520 | 0.2412 | 0.2871486
6207998510 | 0.2412 | 0.2871486
6207998520 | 0.2412 | 0.2871486
6208110000 | 0.2412 | 0.2871486
6208192000 | 1.0852 | 1.2919306
6208195000 | 0.1206 | 0.1435743
6208199000 | 0.2412 | 0.2871486
6208210010 | 1.0026 | 1.1935953
6208210020 | 1.0026 | 1.1935953
6208210030 | 1.0026 | 1.1935953
6208220000 | 0.118 | 0.1404790
6208299030 | 0.2359 | 0.2808390
6208911010 | 1.0852 | 1.2919306
6208911020 | 1.0852 | 1.2919306
6208913010 | 1.0852 | 1.2919306
6208913020 | 1.0852 | 1.2919306
6208920010 | 0.1206 | 0.1435743
6208920020 | 0.1206 | 0.1435743
6208920030 | 0.1206 | 0.1435743
6208920040 | 0.1206 | 0.1435743
6208992010 | 0.0603 | 0.0717872
6208992020 | 0.0603 | 0.0717872
6208995010 | 0.2412 | 0.2871486
6208995020 | 0.2412 | 0.2871486
6208998010 | 0.2412 | 0.2871486
6208998020 | 0.2412 | 0.2871486
6209201000 | 1.0967 | 1.3056214
6209202000 | 1.039 | 1.2369295
6209203000 | 0.9236 | 1.0995458
6209205030 | 0.9236 | 1.0995458
6209205035 | 0.9236 | 1.0995458
6209205045 | 0.9236 | 1.0995458
6209205050 | 0.9236 | 1.0995458
6209301000 | 0.2917 | 0.3472689
6209302000 | 0.2917 | 0.3472689
6209303010 | 0.2334 | 0.2778627
6209303020 | 0.2334 | 0.2778627
6209303030 | 0.2334 | 0.2778627
6209303040 | 0.2334 | 0.2778627
6209900500 | 0.1154 | 0.1373837
6209901000 | 0.2917 | 0.3472689
6209902000 | 0.2917 | 0.3472689
6209903010 | 0.2917 | 0.3472689
6209903015 | 0.2917 | 0.3472689
6209903020 | 0.2917 | 0.3472689
6209903030 | 0.2917 | 0.3472689
6209903040 | 0.2917 | 0.3472689
6210109010 | 0.217 | 0.2583385
6210109040 | 0.217 | 0.2583385
6210203000 | 0.0362 | 0.0430961
6210205000 | 0.0844 | 0.1004782
6210207000 | 0.1809 | 0.2153615
6210303000 | 0.0362 | 0.0430961
6210305000 | 0.0844 | 0.1004782
6210307000 | 0.0362 | 0.0430961
6210309020 | 0.422 | 0.5023910
6210401500 | 0.037 | 0.0440485
6210402520 | 0.4316 | 0.5138198
6210402531 | 0.0863 | 0.1027402
6210402539 | 0.0863 | 0.1027402
6210402540 | 0.4316 | 0.5138198
6210402550 | 0.4316 | 0.5138198
6210402800 | 0.111 | 0.1321455
6210402925 | 0.111 | 0.1321455
6210402933 | 0.111 | 0.1321455
6210402945 | 0.111 | 0.1321455
6210402960 | 0.111 | 0.1321455
6210403500 | 0.037 | 0.0440485
6210405520 | 0.4316 | 0.5138198
6210405531 | 0.0863 | 0.1027402
6210405539 | 0.0863 | 0.1027402
6210405540 | 0.4316 | 0.5138198
6210405550 | 0.4316 | 0.5138198
6210407500 | 0.111 | 0.1321455
6210408025 | 0.111 | 0.1321455
6210408033 | 0.111 | 0.1321455
6210408045 | 0.111 | 0.1321455
6210408060 | 0.111 | 0.1321455
6210500300 | 0.037 | 0.0440485
6210500520 | 0.0863 | 0.1027402
6210500531 | 0.0863 | 0.1027402
6210500539 | 0.0863 | 0.1027402
6210500540 | 0.0863 | 0.1027402
6210500555 | 0.0863 | 0.1027402
6210501200 | 0.4316 | 0.5138198
6210502250 | 0.148 | 0.1761940
6210502260 | 0.148 | 0.1761940
6210502270 | 0.148 | 0.1761940
6210502290 | 0.148 | 0.1761940
6210503500 | 0.037 | 0.0440485
6210505520 | 0.0863 | 0.1027402
6210505531 | 0.0863 | 0.1027402
6210505539 | 0.0863 | 0.1027402
6210505540 | 0.0863 | 0.1027402
6210505555 | 0.0863 | 0.1027402
6210507500 | 0.4316 | 0.5138198
6210508050 | 0.148 | 0.1761940
6210508060 | 0.148 | 0.1761940
6210508070 | 0.148 | 0.1761940
6210508090 | 0.148 | 0.1761940
6211111010 | 0.1206 | 0.1435743
6211111020 | 0.1206 | 0.1435743
6211118010 | 1.0852 | 1.2919306
6211118020 | 1.0852 | 1.2919306
6211118040 | 0.2412 | 0.2871486
6211121010 | 0.0603 | 0.0717872
6211121020 | 0.0603 | 0.0717872
6211128010 | 1.0852 | 1.2919306
6211128020 | 1.0852 | 1.2919306
6211128030 | 0.6029 | 0.7177525
6211200410 | 0.7717 | 0.9187089
6211200420 | 0.0965 | 0.1148833
6211200430 | 0.7717 | 0.9187089
6211200440 | 0.0965 | 0.1148833
6211200810 | 0.3858 | 0.4592949
6211200820 | 0.3858 | 0.4592949
6211201510 | 0.7615 | 0.9065658
6211201515 | 0.2343 | 0.2789342
6211201520 | 0.6443 | 0.7670392
6211201525 | 0.2929 | 0.3486975
6211201530 | 0.7615 | 0.9065658
6211201535 | 0.3515 | 0.4184608
6211201540 | 0.7615 | 0.9065658
6211201545 | 0.2929 | 0.3486975
6211201550 | 0.7615 | 0.9065658
6211201555 | 0.41 | 0.4881050
6211201560 | 0.7615 | 0.9065658
6211201565 | 0.2343 | 0.2789342
6211202400 | 0.1233 | 0.1467887
6211202810 | 0.8016 | 0.9543048
6211202820 | 0.2466 | 0.2935773
6211202830 | 0.3083 | 0.3670312
6211203400 | 0.1233 | 0.1467887
6211203810 | 0.8016 | 0.9543048
6211203820 | 0.2466 | 0.2935773
6211203830 | 0.3083 | 0.3670312
6211204400 | 0.1233 | 0.1467887
6211204815 | 0.8016 | 0.9543048
6211204835 | 0.2466 | 0.2935773
6211204860 | 0.3083 | 0.3670312
6211205400 | 0.1233 | 0.1467887
6211205810 | 0.8016 | 0.9543048
6211205820 | 0.2466 | 0.2935773
6211205830 | 0.3083 | 0.3670312
6211206400 | 0.1233 | 0.1467887
6211206810 | 0.8016 | 0.9543048
6211206820 | 0.2466 | 0.2935773
6211206830 | 0.3083 | 0.3670312
6211207400 | 0.1233 | 0.1467887
6211207810 | 0.9249 | 1.1010935
6211207820 | 0.2466 | 0.2935773
6211207830 | 0.3083 | 0.3670312
6211325003 | 0.6412 | 0.7633486
6211325007 | 0.8016 | 0.9543048
6211325010 | 0.9865 | 1.1744283
6211325015 | 0.9865 | 1.1744283
6211325025 | 0.9865 | 1.1744283
6211325030 | 0.9249 | 1.1010935
6211325040 | 0.9249 | 1.1010935
6211325050 | 0.9249 | 1.1010935
6211325060 | 0.9249 | 1.1010935
6211325070 | 0.9249 | 1.1010935
6211325075 | 0.9249 | 1.1010935
6211325081 | 0.9249 | 1.1010935
6211329003 | 0.6412 | 0.7633486
6211329007 | 0.8016 | 0.9543048
6211329010 | 0.9865 | 1.1744283
6211329015 | 0.9865 | 1.1744283
6211329025 | 0.9865 | 1.1744283
6211329030 | 0.9249 | 1.1010935
6211329040 | 0.9249 | 1.1010935
6211329050 | 0.9249 | 1.1010935
6211329060 | 0.9249 | 1.1010935
6211329070 | 0.9249 | 1.1010935
6211329075 | 0.9249 | 1.1010935
6211329081 | 0.9249 | 1.1010935
6211335003 | 0.0987 | 0.1175024
6211335007 | 0.1233 | 0.1467887
6211335010 | 0.3083 | 0.3670312
6211335015 | 0.3083 | 0.3670312
6211335017 | 0.3083 | 0.3670312
6211335025 | 0.37 | 0.4404850
6211335030 | 0.37 | 0.4404850
6211335035 | 0.37 | 0.4404850
6211335040 | 0.37 | 0.4404850
6211335054 | 0.37 | 0.4404850
6211335058 | 0.37 | 0.4404850
6211335061 | 0.37 | 0.4404850
6211339003 | 0.0987 | 0.1175024
6211339007 | 0.1233 | 0.1467887
6211339010 | 0.3083 | 0.3670312
6211339015 | 0.3083 | 0.3670312
6211339017 | 0.3083 | 0.3670312
6211339025 | 0.37 | 0.4404850
6211339030 | 0.37 | 0.4404850
6211339035 | 0.37 | 0.4404850
6211339040 | 0.37 | 0.4404850
6211339054 | 0.37 | 0.4404850
6211339058 | 0.37 | 0.4404850
6211339061 | 0.37 | 0.4404850
6211390310 | 0.1233 | 0.1467887
6211390320 | 0.1233 | 0.1467887
6211390330 | 0.1233 | 0.1467887
6211390340 | 0.1233 | 0.1467887
6211390345 | 0.1233 | 0.1467887
6211390351 | 0.1233 | 0.1467887
6211391510 | 0.2466 | 0.2935773
6211391520 | 0.2466 | 0.2935773
6211391530 | 0.2466 | 0.2935773
6211391540 | 0.2466 | 0.2935773
6211391550 | 0.2466 | 0.2935773
6211391560 | 0.2466 | 0.2935773
6211391570 | 0.2466 | 0.2935773
6211391590 | 0.2466 | 0.2935773
6211393010 | 0.1233 | 0.1467887
6211393020 | 0.1233 | 0.1467887
6211393030 | 0.1233 | 0.1467887
6211393040 | 0.1233 | 0.1467887
6211393045 | 0.1233 | 0.1467887
6211393051 | 0.1233 | 0.1467887
6211398010 | 0.2466 | 0.2935773
6211398020 | 0.2466 | 0.2935773
6211398030 | 0.2466 | 0.2935773
6211398040 | 0.2466 | 0.2935773
6211398050 | 0.2466 | 0.2935773
6211398060 | 0.2466 | 0.2935773
6211398070 | 0.2466 | 0.2935773
6211398090 | 0.2466 | 0.2935773
6211420503 | 0.6412 | 0.7633486
6211420507 | 0.8016 | 0.9543048
6211420510 | 0.9865 | 1.1744283
6211420520 | 0.9865 | 1.1744283
6211420525 | 1.1099 | 1.3213360
6211420530 | 0.8632 | 1.0276396
6211420540 | 0.9865 | 1.1744283
6211420554 | 1.1099 | 1.3213360
6211420556 | 1.1099 | 1.3213360
6211420560 | 0.9865 | 1.1744283
6211420570 | 1.1099 | 1.3213360
6211420575 | 1.1099 | 1.3213360
6211420581 | 1.1099 | 1.3213360
6211421003 | 0.6412 | 0.7633486
6211421007 | 0.8016 | 0.9543048
6211421010 | 0.9865 | 1.1744283
6211421020 | 0.9865 | 1.1744283
6211421025 | 1.1099 | 1.3213360
6211421030 | 0.8632 | 1.0276396
6211421040 | 0.9865 | 1.1744283
6211421054 | 1.1099 | 1.3213360
6211421056 | 1.1099 | 1.3213360
6211421060 | 0.9865 | 1.1744283
6211421070 | 1.1099 | 1.3213360
6211421075 | 1.1099 | 1.3213360
6211421081 | 1.1099 | 1.3213360
6211430503 | 0.0987 | 0.1175024
6211430507 | 0.1233 | 0.1467887
6211430510 | 0.2466 | 0.2935773
6211430520 | 0.2466 | 0.2935773
6211430530 | 0.2466 | 0.2935773
6211430540 | 0.2466 | 0.2935773
6211430550 | 0.2466 | 0.2935773
6211430560 | 0.2466 | 0.2935773
6211430564 | 0.3083 | 0.3670312
6211430566 | 0.2466 | 0.2935773
6211430574 | 0.3083 | 0.3670312
6211430576 | 0.37 | 0.4404850
6211430578 | 0.37 | 0.4404850
6211430591 | 0.2466 | 0.2935773
6211431003 | 0.0987 | 0.1175024
6211431007 | 0.1233 | 0.1467887
6211431010 | 0.2466 | 0.2935773
6211431020 | 0.2466 | 0.2935773
6211431030 | 0.2466 | 0.2935773
6211431040 | 0.2466 | 0.2935773
6211431050 | 0.2466 | 0.2935773
6211431060 | 0.2466 | 0.2935773
6211431064 | 0.3083 | 0.3670312
6211431066 | 0.2466 | 0.2935773
6211431074 | 0.3083 | 0.3670312
6211431076 | 0.37 | 0.4404850
6211431078 | 0.37 | 0.4404850
6211431091 | 0.2466 | 0.2935773
6211492510 | 0.2466 | 0.2935773
6211492520 | 0.2466 | 0.2935773
6211492530 | 0.2466 | 0.2935773
6211492540 | 0.2466 | 0.2935773
6211492550 | 0.2466 | 0.2935773
6211492560 | 0.2466 | 0.2935773
6211492570 | 0.2466 | 0.2935773
6211492580 | 0.2466 | 0.2935773
6211492590 | 0.2466 | 0.2935773
6211498010 | 0.2466 | 0.2935773
6211498020 | 0.2466 | 0.2935773
6211498030 | 0.2466 | 0.2935773
6211498040 | 0.2466 | 0.2935773
6211498050 | 0.2466 | 0.2935773
6211498060 | 0.2466 | 0.2935773
6211498070 | 0.2466 | 0.2935773
6211498080 | 0.2466 | 0.2935773
6211498090 | 0.2466 | 0.2935773
6212105010 | 0.9138 | 1.0878789
6212105020 | 0.2285 | 0.2720293
6212105030 | 0.2285 | 0.2720293
6212109010 | 0.9138 | 1.0878789
6212109020 | 0.2285 | 0.2720293
6212109040 | 0.2285 | 0.2720293
6212200010 | 0.6854 | 0.8159687
6212200020 | 0.2856 | 0.3400068
6212200030 | 0.1142 | 0.1359551
6212300010 | 0.6854 | 0.8159687
6212300020 | 0.2856 | 0.3400068
6212300030 | 0.1142 | 0.1359551
6212900010 | 0.1828 | 0.2176234
6212900020 | 0.1828 | 0.2176234
6212900030 | 0.1828 | 0.2176234
6212900050 | 0.0914 | 0.1088117
6212900090 | 0.4112 | 0.4895336
6213201000 | 1.1187 | 1.3318124
6213202000 | 1.0069 | 1.1987145
6213900700 | 0.4475 | 0.5327488
6213901000 | 0.4475 | 0.5327488
6213902000 | 0.3356 | 0.3995318
6214300000 | 0.1142 | 0.1359551
6214400000 | 0.1142 | 0.1359551
6214900010 | 0.8567 | 1.0199014
6214900090 | 0.2285 | 0.2720293
6215100025 | 0.1142 | 0.1359551
6215200000 | 0.1142 | 0.1359551
6215900015 | 1.0281 | 1.2239531
6216000800 | 0.0685 | 0.0815493
6216001300 | 0.3427 | 0.4079844
6216001720 | 0.6397 | 0.7615629
6216001730 | 0.1599 | 0.1903610
6216001900 | 0.3427 | 0.4079844
6216002110 | 0.578 | 0.6881090
6216002120 | 0.2477 | 0.2948869
6216002410 | 0.6605 | 0.7863253
6216002425 | 0.1651 | 0.1965516
6216002600 | 0.1651 | 0.1965516
6216002910 | 0.6605 | 0.7863253
6216002925 | 0.1651 | 0.1965516
6216003100 | 0.1651 | 0.1965516
6216003300 | 0.5898 | 0.7021569
6216003500 | 0.5898 | 0.7021569
6216003800 | 1.1796 | 1.4043138
6216004100 | 1.1796 | 1.4043138
6217109510 | 0.9646 | 1.1483563
6217109520 | 0.1809 | 0.2153615
6217109530 | 0.2412 | 0.2871486
6217909003 | 0.9646 | 1.1483563
6217909005 | 0.1809 | 0.2153615
6217909010 | 0.2412 | 0.2871486
6217909025 | 0.9646 | 1.1483563
6217909030 | 0.1809 | 0.2153615
6217909035 | 0.2412 | 0.2871486
6217909050 | 0.9646 | 1.1483563
6217909055 | 0.1809 | 0.2153615
6217909060 | 0.2412 | 0.2871486
6217909075 | 0.9646 | 1.1483563
6217909080 | 0.1809 | 0.2153615
6217909085 | 0.2412 | 0.2871486
6301300010 | 0.8305 | 0.9887103
6301300020 | 0.8305 | 0.9887103
6301900030 | 0.2215 | 0.2636958
6302100005 | 1.1073 | 1.3182407
6302100008 | 1.1073 | 1.3182407
6302100015 | 1.1073 | 1.3182407
6302213010 | 1.1073 | 1.3182407
6302213020 | 1.1073 | 1.3182407
6302213030 | 1.1073 | 1.3182407
6302213040 | 1.1073 | 1.3182407
6302213050 | 1.1073 | 1.3182407
6302215010 | 0.7751 | 0.9227566
6302215020 | 0.7751 | 0.9227566
6302215030 | 0.7751 | 0.9227566
6302215040 | 0.7751 | 0.9227566
6302215050 | 0.7751 | 0.9227566
6302217010 | 1.1073 | 1.3182407
6302217020 | 1.1073 | 1.3182407
6302217030 | 1.1073 | 1.3182407
6302217040 | 1.1073 | 1.3182407
6302217050 | 1.1073 | 1.3182407
6302219010 | 0.7751 | 0.9227566
6302219020 | 0.7751 | 0.9227566
6302219030 | 0.7751 | 0.9227566
6302219040 | 0.7751 | 0.9227566
6302219050 | 0.7751 | 0.9227566
6302221010 | 0.5537 | 0.6591799
6302221020 | 0.3876 | 0.4614378
6302221030 | 0.5537 | 0.6591799
6302221040 | 0.3876 | 0.4614378
6302221050 | 0.3876 | 0.4614378
6302221060 | 0.3876 | 0.4614378
6302222010 | 0.3876 | 0.4614378
6302222020 | 0.3876 | 0.4614378
6302222030 | 0.3876 | 0.4614378
6302290020 | 0.2215 | 0.2636958
6302313010 | 1.1073 | 1.3182407
6302313020 | 1.1073 | 1.3182407
6302313030 | 1.1073 | 1.3182407
6302313040 | 1.1073 | 1.3182407
6302313050 | 1.1073 | 1.3182407
6302315010 | 0.7751 | 0.9227566
6302315020 | 0.7751 | 0.9227566
6302315030 | 0.7751 | 0.9227566
6302315040 | 0.7751 | 0.9227566
6302315050 | 0.7751 | 0.9227566
6302317010 | 1.1073 | 1.3182407
6302317020 | 1.1073 | 1.3182407
6302317030 | 1.1073 | 1.3182407
6302317040 | 1.1073 | 1.3182407
6302317050 | 1.1073 | 1.3182407
6302319010 | 0.7751 | 0.9227566
6302319020 | 0.7751 | 0.9227566
6302319030 | 0.7751 | 0.9227566
6302319040 | 0.7751 | 0.9227566
6302319050 | 0.7751 | 0.9227566
6302321010 | 0.5537 | 0.6591799
6302321020 | 0.3876 | 0.4614378
6302321030 | 0.5537 | 0.6591799
6302321040 | 0.3876 | 0.4614378
6302321050 | 0.3876 | 0.4614378
6302321060 | 0.3876 | 0.4614378
6302322010 | 0.5537 | 0.6591799
6302322020 | 0.3876 | 0.4614378
6302322030 | 0.5537 | 0.6591799
6302322040 | 0.3876 | 0.4614378
6302322050 | 0.3876 | 0.4614378
6302322060 | 0.3876 | 0.4614378
6302390030 | 0.2215 | 0.2636958
6302402010 | 0.9412 | 1.1204986
6302511000 | 0.5537 | 0.6591799
6302512000 | 0.8305 | 0.9887103
6302513000 | 0.5537 | 0.6591799
6302514000 | 0.7751 | 0.9227566
6302593020 | 0.5537 | 0.6591799
6302600010 | 1.1073 | 1.3182407
6302600020 | 0.9966 | 1.1864523
6302600030 | 0.9966 | 1.1864523
6302910005 | 0.9966 | 1.1864523
6302910015 | 1.1073 | 1.3182407
6302910025 | 0.9966 | 1.1864523
6302910035 | 0.9966 | 1.1864523
6302910045 | 0.9966 | 1.1864523
6302910050 | 0.9966 | 1.1864523
6302910060 | 0.9966 | 1.1864523
6302931000 | 0.4429 | 0.5272725
6302932000 | 0.4429 | 0.5272725
6302992000 | 0.2215 | 0.2636958
6303191100 | 0.8859 | 1.0546640
6303910010 | 0.609 | 0.7250145
6303910020 | 0.609 | 0.7250145
6303921000 | 0.2768 | 0.3295304
6303922010 | 0.2768 | 0.3295304
6303922030 | 0.2768 | 0.3295304
6303922050 | 0.2768 | 0.3295304
6303990010 | 0.2768 | 0.3295304
6304111000 | 0.9966 | 1.1864523
6304113000 | 0.1107 | 0.1317884
6304190500 | 0.9966 | 1.1864523
6304191000 | 1.1073 | 1.3182407
6304191500 | 0.3876 | 0.4614378
6304192000 | 0.3876 | 0.4614378
6304193060 | 0.2215 | 0.2636958
6304910020 | 0.8859 | 1.0546640
6304910070 | 0.2215 | 0.2636958
6304920000 | 0.8859 | 1.0546640
6304996040 | 0.2215 | 0.2636958
6505001515 | 1.1189 | 1.3320505
6505001525 | 0.5594 | 0.6659657
6505001540 | 1.1189 | 1.3320505
6505002030 | 0.9412 | 1.1204986
6505002060 | 0.9412 | 1.1204986
6505002545 | 0.5537 | 0.6591799
6507000000 | 0.3986 | 0.4745333
9404901000 | 0.2104 | 0.2504812
9404908020 | 0.9966 | 1.1864523
9404908040 | 0.9966 | 1.1864523
9404908505 | 0.6644 | 0.7909682
9404908536 | 0.0997 | 0.1186929
9404909505 | 0.6644 | 0.7909682
9404909570 | 0.2658 | 0.3164349
9619002100 | 0.8681 | 1.0334731
9619002500 | 0.1085 | 0.1291693
9619003100 | 0.9535 | 1.1351418
9619003300 | 1.1545 | 1.3744323
9619004100 | 0.2384 | 0.2838152
9619004300 | 0.2384 | 0.2838152
9619006100 | 0.8528 | 1.0152584
9619006400 | 0.2437 | 0.2901249
9619006800 | 0.3655 | 0.4351278
9619007100 | 1.1099 | 1.3213360
9619007400 | 0.2466 | 0.2935773
9619007800 | 0.2466 | 0.2935773
9619007900 | 0.2466 | 0.2935773

* * * * *

(Authority: 7 U.S.C. 2101-2118)

Dated: August 13, 2018
Bruce Summers,
Administrator.

[FR Doc. 2018-17723 Filed 8-16-18; 8:45 am]

BILLING CODE 3410-02-P